DEPARTMENT OF TRANSPORTATION

Federal Transit Administration

FTA Fiscal Year 2012 Apportionments, Allocations, and Program Information

AGENCY: Federal Transit Administration (FTA), DOT.

ACTION: Notice.

SUMMARY: The Federal Transit Administration (FTA) annually publishes one or more notices apportioning funds appropriated by law. In some cases, if less than a full year of funds is available, FTA publishes multiple partial apportionment notices. This notice is the first notice announcing partial apportionment for programs funded with Fiscal Year (FY) 2012 contract authority because the current authorization of FTA's programs provides contract authority for the period October 1, 2011 through March 31, 2012. Additionally, the Consolidated and Further Continuing Appropriations Act, 2012, provides full-year funding for FTA's programs funded from the General Fund of the United States Treasury, which are Administrative Expenses, the New Starts and Research programs and grants to the Washington Metropolitan Area Transit Authority. The Appropriations Act, 2012 also provides an obligation limitation for the available contract authority and any additional contract authority that Congress may make available this fiscal year. This notice also provides program guidance and requirements; and provides information on several program issues important under the current program authorization. Also included are tables that show certain discretionary program unobligated (carryover) and reapportioned funding from previous years available for obligation during FY 2012.

FOR FURTHER INFORMATION CONTACT: For general information about this notice contact Jamie Pfister, Director, Office of Transit Programs, at (202) 366-2053. Please contact the appropriate FTA regional office for any specific requests for information or technical assistance. The Appendix at the end of this notice includes contact information for FTA regional offices.

An FTA headquarters contact for each major program area is included in the discussion of that program in the text of the notice.

SUPPLEMENTARY INFORMATION:

Table of Contents

I. Overview

II. FY 2011 Available Funding for FTA Programs

A. Available Funding Based on the Consolidated and Further Continuing Appropriations Act, 2012 (Minibus), the Surface and Air Transportation Programs Extension Act, 2012, and the Safe, Accountable, Flexible, Efficient Transportation Equity Act: A Legacy for Users (SAFETEA-LU)

B. Program Funds Set-Aside for Oversight

III. FTA FY 2012 Program Highlights and Changes

A. Discretionary Grant Program Competitions

B. Census Designations and Population Counts for the Apportionment of Formula Funds

C. Federal Share for Biodiesel Buses

D. Vehicle Fuel and Electrical Propulsion Costs as Capital Maintenance for Section 5307

IV. 2012 FTA Programs

A. Metropolitan Planning Program (49 U.S.C. 5305(d))

B. State Planning and Research Program (49 U.S.C. 5305(e))

C. Urbanized Area Formula Program (49 U.S.C. 5307)

D. Clean Fuels Grant Program (49 U.S.C. 5308)

E. Capital Investment Program (49 U.S.C. 5309)—Fixed Guideway Modernization

F. Capital Investment Program (49 U.S.C. 5309)—Bus and Bus-Related Facilities

G. Capital Investment Program (49 U.S.C. 5309)—New Starts

H. Special Needs of Elderly Individuals and Individuals With Disabilities Program (49 U.S.C. 5310)

I. Non-Urbanized Area Formula Program (49 U.S.C. 5311)

J. Rural Transportation Assistance Program (49 U.S.C. 5311(b)(3))

K. Public Transportation on Indian Reservations Program (49 U.S.C. 5311(c)(1))

L. Job Access and Reverse Commute Program (49 U.S.C. 5316)

M. New Freedom Program (49 U.S.C. 5317)

N. Paul S. Sarbanes Transit in Parks Program (49 U.S.C. 5320)

O. Alternatives Analysis Program (49 U.S.C. 5339)

P. Growing States and High Density States Formula (49 U.S.C. 5340)

Q. Over-the-Road Bus Accessibility Program (Section 3038, Pub. L. 105-85)

R. National Research Program (49 U.S.C. 5314)

S. Washington Metropolitan Area Transit Authority Grants

V. FTA Policy and Procedures for FY 2012 Grants Requirements

A. Automatic Pre-Award Authority To Incur Project Costs

B. Letter of No Prejudice (LONP) Policy

C. FTA FY 2012 Annual List of Certifications and Assurances

D. FHWA Funds Used for Transit Purposes

E. Civil Rights Requirements

F. Deferred Local Share

G. Technical Assistance

VI. Tables

1. FTA FY 2012 Appropriations and Apportionments for Grant Programs

2. FTA FY 2012 Section 5303 and 5304 Metropolitan Planning Program and State Planning and Research Program Apportionments

3. FTA FY 2012 Section 5307 and Section 5340 Urbanized Area Apportionments

3-A. Census 2000 Urbanized Areas 200,000 or More in Population Eligible To Use Section 5307 Funds for Operating Assistance

4. FTA FY 2012 Section 5307 Apportionment Formula

5. FTA FY 2012 Formula Programs Apportionments Data Unit Values

6. FTA FY 2012 Small Transit Intensive Cities Performance Data and Apportionments

7. FTA Section 5308 Prior Year Unobligated Clean Fuels Allocations

8. FTA FY 2012 Section 5309 Fixed Guideway Modernization Apportionments

9. FTA FY 2012 Section 5309 Fixed Guideway Modernization Program Apportionment Formula

10. FTA FY 2012 Section 5309 Bus and Bus Related Equipment and Facilities Allocations

11. FTA Section 5309 Prior Year Unobligated Bus and Bus Related Equipment and Facilities Allocations

12. FTA FY 2012 Section 5309 New Starts Allocations

13. FTA Section 5309 Prior Year Unobligated New Starts Program Allocations

14. FTA FY 2012 Section 5310 Special Needs for Elderly Individuals and Individuals With Disabilities Apportionments

15. FTA FY 2012 Section 5311 and Section 5340 Nonurbanized Area Formula Apportionments, and Rural Transportation Assistance Program (RTAP) Allocations

16. FTA FY 2012 Section 5311(c) Prior Year Unobligated Public Transportation on Indian Reservations Allocations

17. FTA FY 2012 Section 5316 Job Access and Reverse Commute (JARC) Apportionments

18. FTA FY 2012 Section 5317 New Freedom Apportionments

19. FTA Section 5339 Prior Year Unobligated Alternatives Analysis Allocations

VII. Appendix

I. Overview

FTA's current authorization, the Safe, Accountable, Flexible, Efficient, Transportation Equity Act: A Legacy for Users (SAFETEA-LU), expired September 30, 2009. Since that time, Congress has enacted short term extensions allowing FTA to continue its current programs. The Surface and Air Transportation Programs Extension Act of 2011 (Pub. L. 112-30, Div. C), hereinafter (“Temporary Authorization, 2012”), continues the authorization of the Federal transit programs of the U.S. Department of Transportation (DOT) through March 31, 2012. It extends contract authority for the Formula and Bus Grants programs at approximately fifty percent of the FY 2011 levels until March 31, 2012. Additionally, FTA's full-year appropriations bill (Pub. L. 112-055, the Consolidated and Further Continuing Appropriations Act, 2012), hereinafter (“Appropriations Act, 2012”) was enacted in November, giving FTA appropriated resources for Administrative Expenses, Capital Investment Grants, and Research programs and grants to the Washington Metropolitan Area Transportation Authority. The Appropriations Act, 2012 also provides a full fiscal year obligation limitation on any contract authority that is made available to FTA programs funded from the Mass Transit Account of the Highway Trust Fund during this fiscal year.

This document apportions the FY 2012 authorized contract authority among potential program recipients according to statutory formulas in 49 U.S.C. Chapter 53. FTA will issue a supplemental notice at a later date if additional contract authority becomes available.

The notice does not include reprogramming of discretionary funds that lapsed to the designated project as of September 30, 2011 or the allocation of FY 2012 discretionary resources, with the exception of Small Starts allocations.

For each FTA program included in this notice, we have provided relevant information about the FY 2012 funding currently available, program requirements, period of availability, and other related program information and highlights, as appropriate. A separate section of the document provides information on program requirements and guidance that are applicable to all FTA programs. For additional information on FY 2012 and prior year annual apportionments, please visit www.fta.dot.gov/grants/12853.html.

II. FY 2012 Funding for FTA Programs

A. Funding Based on the Consolidated and Further Continuing Appropriations Act, 2012 (Pub. L. 112-55), and the Surface and Air Transportation Programs Extension Act of 2011 (Pub. L. 112-30)

The Surface and Air Transportation Programs Extension Act of 2011 (Temporary Authorization, 2012) continues the authorization of the Federal transit programs of the U.S. Department of Transportation (DOT) through March 31, 2012, and provides contract authority for these programs equal to approximately one half of the amounts available in FY 2011. The fiscal year 2012 Appropriations Act provides full-year funding for FTA programs funded from the General Fund of the United States Treasury and a full year obligation limitation on any contract authority that is made available during this fiscal year.

Table 1 of this document shows the funding that is currently available for the FTA programs. In addition to current year contract authority and appropriated funds, available funding also includes a small amount of additional contract authority not allocated in fiscal year 2011 and recoveries of lapsed funds. The amounts shown in Table 1 also include applicable reductions for set asides and takedowns. This Federal Register notice includes tables of apportionments and allocations for FTA formula programs as well as carryover discretionary funds based on applicable law.

B. Program Funds Set-Aside for Project Management Oversight

As background, Section 5327 of title 49, U.S.C., authorizes the takedown of funds from FTA programs for project management oversight. Section 5327 provides oversight takedowns at the following levels: 0.5 percent of Planning funds, 0.75 percent of Urbanized Area Formula funds, 1 percent of Capital Investment funds, 0.5 percent of Special Needs of Elderly Individuals and Individuals with Disabilities formula funds, 0.5 percent of Non-urbanized Area Formula funds, and 0.5 percent of the Paul S. Sarbanes Transit in the Parks Program funds (formerly the Alternative Transportation in the Parks and Public Lands Program). In addition, the Appropriations Act, 2012 authorizes an oversight takedown of 1 percent from the Job Access and Reverse Commute Program.

The funds are used to provide necessary oversight activities, including oversight of the construction of any major capital project under these statutory programs; to conduct State Safety Oversight, drug and alcohol, civil rights, procurement systems, management, planning certification and, financial reviews and audits, as well as evaluations and analyses of grantee specific problems and issues; and to provide technical assistance to correct deficiencies identified in compliance reviews and audits.

III. FTA FY 2012 Program Highlights and Changes

A. Discretionary Grant Program Competitions

FTA's discretionary grant programs that are funded from the General Fund of the United States Treasury (Section 5309 New Starts and the National Research Program) are authorized under chapter 53 of title 49, U.S.C., and funds are appropriated to carry out project activities in the Appropriation Act, 2012. Discretionary grant programs for which funding is derived from the Mass Transit Account of the Highway Trust Fund (Section 5308 Clean Fuels, 5309 Bus and Bus Facilities, 5311(c) Tribal Transit, 5320 Paul S. Sarbanes Transit in Parks, 5339 Alternatives Analysis, and Section 3038, Pub. L. 105-85 Over the Road Bus Accessibility) are provided with contract authority pursuant to 49 U.S.C. 5338(f)(1). At this time only half of the FY 2011 amount is available. Programs that were funded with unallocated Section 5309 bus funds in FY 2011 will again be allocated through a competitive process in FY 2012. Information about discretionary programs, including currently available funding amounts, can be found under the relevant subheading within this notice.

FTA anticipates publishing individual or combined Notices of Funding Availability (NOFAs) for discretionary programs in the Federal Register during the first quarter of calendar year 2012. Specific program requirements and selection criteria will be published in the relevant NOFAs. Applications will be due usually within 45-75 days from the date of publication. See the subheading for the Transit in Parks program for a specific exception relating to that program's schedule. New Starts and Small Starts program funds are allocated to specific projects by Congress after an extensive review and qualification process, and will not be published as a NOFA in the Federal Register.

B. Census Designations and Population Counts Used for the Apportionment of Formula Funds

Formula allocations for Fiscal Year 2012 will continue to be based on 2000 Census data and designations. The 2010 Census Urbanized Area (UZA) designations and populations, which are expected to be released by the Bureau of the Census during FY 2012, will be used for the apportionment of FTA formula funds no earlier than FY 2013. For information on how the 2010 Census may affect formula funding recipients, FTA has published a summary of the potential impacts on its Web site at http://www.fta.dot.gov/grants/12853_12408.html.

C. Federal Share for Biodiesel Buses

Section 164 of the Consolidated Appropriations Act, 2008, the Omnibus Act, 2009 and the Consolidated Appropriations Act, 2010 allowed a 90 percent Federal share for biodiesel buses and for the net capital cost of factory-installed or retrofitted hybrid electric propulsion systems and any equipment related to such a system. The Department of Defense and Full-Year Continuing Appropriations Act, 2011 continued the provision for fiscal year 2011. However, the Appropriations Act, 2012, does not contain similar language. Therefore, the increased Federal share for biodiesel buses and for the net capital cost of factory-installed or retrofitted hybrid electric propulsion systems and any equipment related to such a system is no longer authorized through the appropriation process for grants awarded in fiscal year 2012.

D. Vehicle Fuel and Electrical Propulsion Costs as Capital Maintenance for Section 5307

The Appropriations Act, 2012, permits FTA to treat fuel costs for vehicle operations, including utility costs for the propulsion of electrical vehicles, as a capital maintenance item for grants made in FY 2012 under the Urbanized Area Formula Program, up to a total of $100,000,000. Since total obligations for this purpose are limited to $100,000,000, the use of funds for this purpose will be limited in amount, and will be available only to program recipients that respond to an upcoming announcement posted at www.grants.gov. Recipients are advised that this provision does not provide any funding in addition to their Section 5307 program apportionment. Additional information on this provision can be found in IV-C. Urbanized Area Formula Program (49.U.S.C. 5307).

IV. FTA Programs

This section of the notice provides the available FY 2012 funding to date and/or other important program-related information for eleven FTA formula and discretionary programs that are contained in this notice. Funding and/or other important information for each of the formula programs is presented immediately below. This includes program apportionments, program requirements, length of time FY 2012 funding is available for obligation to the recipient and other significant program information.

A. Metropolitan Planning Program (49 U.S.C. 5305(d))

Section 5305(d) authorizes Federal funding to support a cooperative, continuous, and comprehensive planning program for transportation investment decision-making at the metropolitan area level. The specific requirements of metropolitan transportation planning are set forth in 49 U.S.C. 5303 and further explained in 23 CFR Part 450, as incorporated by reference in 49 CFR Part 613, Statewide Transportation Planning; Metropolitan Transportation Planning. State Departments of Transportation are direct recipients of funds allocated by FTA, which are then sub-allocated to Metropolitan Planning Organizations (MPOs), for planning activities that support the economic vitality of the metropolitan area, especially by enabling global competitiveness, productivity, and efficiency; increasing the safety and security of the transportation system for motorized and non-motorized users; increasing the accessibility and mobility options available to people and for freight; protecting and enhancing the environment, promoting energy conservation, and improving quality of life; enhancing the integration and connectivity of the transportation system, across and between modes, for people and freight; promoting efficient transportation system management and operation; and emphasizing the preservation of the existing transportation system. This funding must support work elements and activities resulting in balanced and comprehensive intermodal transportation planning for the movement of people and goods in the metropolitan area. Comprehensive transportation planning is not limited to transit planning or surface transportation planning, but also encompasses the relationships among land use and all transportation modes, without regard to the programmatic source of Federal assistance. Eligible work elements or activities include, but are not limited to studies relating to management, mobility management, planning, operations, capital requirements, and economic feasibility; evaluation of previously funded projects; peer reviews and exchanges of technical data, information, assistance, and related activities in support of planning and environmental analysis among MPOs and other transportation planners; work elements and related activities preliminary to and in preparation for constructing, acquiring, or improving the operation of facilities and equipment; development of coordinated public transit human services transportation plans. An exhaustive list of eligible work activities is provided in FTA Circular 8100.1C, Program Guidance for Metropolitan Planning and State Planning and Research Program Grants, dated September 1, 2008. For more about the Metropolitan Planning Program and the FTA Circular 8100.1C, contact Victor Austin, Office of Planning and Environment at (202) 366-2996.

1. FY 2012 Funding Availability

The Temporary Authorization, 2012 provides $46,943,600 in contract authority for the period October 1, 2011 through March 31, 2012 to the Metropolitan Planning Program (49 U.S.C. 5305(d) to support metropolitan transportation planning activities set forth in 49 U.S.C. 5303. Thus far, the total amount apportioned for the Metropolitan Planning Program to States for MPOs' use in urbanized areas (UZAs) is $46,925,691, as shown in the table below, after the addition of available FY 2011 contract authority and reapportioned funds and deductions for oversight.

Metropolitan planning program
Total Appropriation | $46,943,600
FY 2011 Contract Authority | 195,331
Oversight Deductions | −235,695
Reapportioned Funds | 22,455
Total Apportioned | 46,925,691

States' apportionments for this program are displayed in Table 2.

2. Basis for Formula Apportionments

As specified in law, 82.72 percent of the amounts authorized for Section 5305 are made available to the Metropolitan Planning program. FTA apportions Metropolitan Planning funds to the States according to a statutory formula. Eighty percent of the funds are apportioned to the States based on the most recent decennial Census for each State's UZA population. The remaining 20 percent is provided to the States as a supplemental apportionment based on an FTA administrative formula to address planning needs in larger, more complex UZAs. The amount published for each State includes the supplemental allocation.

3. Program Requirements

The State allocates Metropolitan Planning funds to MPOs in UZAs or portions thereof to provide funds for planning projects included in a one or two year program of planning work activities (the Unified Planning Work Program, or UPWP) that includes multimodal systems planning activities spanning both highway and transit planning topics. Each State has either reaffirmed or developed, in consultation with their MPOs, an allocation formula among MPOs within the State, based on the 2000 Census. The allocation formula among MPOs in each State may be changed annually, but any change requires approval by the FTA regional office before grant approval. Program guidance for the Metropolitan Planning Program is found in FTA Circular 8100.1C, Program Guidance for Metropolitan Planning and State Planning and Research Program Grants, dated September 1, 2008. For more about the Metropolitan Planning Program and the FTA Circular 8100.1C, contact Victor Austin, Office of Planning and Environment at (202) 366-2996.

4. Period of Availability

The funds apportioned under the Metropolitan Planning program to each State remain available for obligation to recipients for four fiscal years—which includes the year of apportionment plus three additional years. Any FY 2012 apportioned funds that remain unobligated at the close of business on September 30, 2015 will revert to FTA for reapportionment under the Metropolitan Planning Program.

5. Consolidated Planning Grants

FTA and FHWA planning funds under both the Metropolitan Planning and State Planning and Research Programs can be consolidated into a single consolidated planning grant (CPG), awarded by either FTA or FHWA. The CPG eliminates the need to monitor individual fund sources, if several have been used, and ensures that the oldest funds will always be used first. Alternatively, FTA planning funds may be transferred to FHWA to be administered as a combined grant.

Under the CPG, States can report metropolitan planning program expenditures (to comply with the Single Audit Act) for both FTA and FHWA under the Catalogue of Federal Domestic Assistance number for FTA's Metropolitan Planning Program (20.505). Additionally, for States with an FHWA Metropolitan Planning (PL) fund-matching ratio greater than 80 percent, the State can waive the 20 percent local share requirement, with FTA's concurrence, to allow FTA funds used for metropolitan planning in a CPG to be granted at the higher FHWA rate. For some States, this Federal match rate can exceed 90 percent.

States interested in transferring planning funds between FTA and FHWA should contact the FTA Regional Office or FHWA Division Office for more detailed procedures. Current guidelines are included in Federal Highway Administration Memorandum dated July 12, 2007, “Information: Final Transfers to Other Agencies that Administer Title 23 Programs.”

For further information on CPGs, contact Nancy Grubb, Office of Budget and Policy, FTA, at (202) 366-1635.

B. State Planning and Research Program (49 U.S.C. 5305(e))

This program provides financial assistance to States for statewide transportation planning and other technical assistance activities, including supplementing the technical assistance program provided through the Metropolitan Planning program. The specific requirements of Statewide transportation planning are set forth in 49 U.S.C. 5304 and further explained in 23 CFR Part 450 as referenced in 49 CFR Part 613, Statewide Transportation Planning; Metropolitan Transportation Planning; Final Rule. This funding must support work elements and activities resulting in balanced and comprehensive intermodal transportation planning for the movement of people and goods. Comprehensive transportation planning is not limited to transit planning or surface transportation planning, but also encompasses the relationships among land use and all transportation modes, without regard to the programmatic source of Federal assistance. For more information, contact Victor Austin, Office of Planning and Environment at (202) 366-2996.

1. FY 2012 Funding Availability

The Temporary Authorization, 2012 provides $9,806,400 in contract authority for the period October 1, 2011 through March 31, 2012 to the State Planning and Research Program (49 U.S.C. 5305). Thus far, the total amount apportioned for the State Planning and Research Program (SPRP) is $9,956,684 as shown in the table below, after the addition of available FY 2011 contract authority and reapportioned funds and the deduction for oversight (authorized by 49 U.S.C. 5327).

State Planning and Research Program
Total Appropriation | $9,806,400
FY 2011 Contract Authority | 40,804
Oversight Deduction | −49,236
Reapportioned Funds | 158,716
Total Apportioned | 9,956,684

State apportionments for this program are displayed in Table 2.

2. Basis for Apportionment Formula

As specified in law, 17.28 percent of the amounts authorized for Section 5305 are allocated to the State Planning and Research program. FTA apportions funds to States by a statutory formula that is based on the most recent decennial Census data available, and the State's UZA population as compared to the UZA population of all States.

3. Requirements

Funds are provided to States for Statewide transportation planning programs. These funds may be used for a variety of purposes such as planning, technical studies and assistance, demonstrations, and management training. In addition, a State may authorize a portion of these funds to be used to supplement Metropolitan Planning funds allocated by the State to its UZAs, as the State deems appropriate. Program guidance for the State Planning and Research program is found in FTA Circular 8100.1C. This funding must support work elements and activities resulting in balanced and comprehensive intermodal transportation planning for the movement of people and goods. Comprehensive transportation planning is not limited to transit planning or surface transportation planning, but also encompasses the relationships among land use and all transportation modes, without regard to the programmatic source of Federal assistance. Eligible work elements or activities include, but are not limited to studies relating to management, planning, operations, capital requirements, and economic feasibility; evaluation of previously funded projects; peer reviews and exchanges of technical data, information, assistance, and related activities in support of planning and environmental analysis; work elements and related activities preliminary to and in preparation for constructing, acquiring, or improving the operation of facilities and equipment. An exhaustive list of eligible work activities is provided in FTA Circular 8100.1C, Program Guidance for Metropolitan Planning and State Planning and Research Program Grants, dated September 1, 2008. For more information, contact Victor Austin, Office of Planning and Environment at (202) 366-2996.

4. Period of Availability

The funds apportioned under the State Planning and Research program to each State remain available for obligation for four fiscal years, which include the year of apportionment plus three additional fiscal years. Any apportioned funds that remain unobligated at the close of business on September 30, 2015, will revert to FTA for reapportionment under the State Planning and Research Program.

C. Urbanized Area Formula Program (49 U.S.C. 5307)

Section 5307 authorizes Federal capital assistance, and in some cases, operating assistance for public transportation in urbanized areas. An urbanized area (UZA) is an area with a population of 50,000 or more that has been defined and designated as such in the 2000 Census by the U.S. Census Bureau. The Urbanized Area Formula Program funds may also be used to support planning activities, and may supplement planning projects funded under the Metropolitan Planning program. Urbanized Area Formula Program funds used for planning must be shown in the Unified Planning Work Program (UPWP) for MPO(s) with responsibility for that area. Funding is apportioned directly to each UZA with a population of 200,000 or more, and to the State Governors for UZAs with populations between 50,000 and 199,999. Eligible applicants are limited to entities designated as recipients in accordance with 49 U.S.C. 5307(a)(2) and other public entities with the consent of the Designated Recipient. Generally, operating assistance is not an eligible expense for UZAs with populations of 200,000 or more. However, there are several exceptions to this restriction. The exceptions are described in section 3(d)(5) below. For more information about the Urbanized Area Formula Program contact Adam Schildge or Elan Flippin, Office of Transit Programs, at (202) 366-0778.

1. FY 2012 Funding Availability

The Temporary Authorization, 2012 provides $2,080,182,500 in contract authority for the period October 1, 2011 through March 31, 2012 to the Urbanized Area Formula Program (49 U.S.C. 5307). Thus far, the total amount apportioned for the Urbanized Area Formula Program is $2,280,481,376 as shown in the table below, after the addition of available FY 2011 contract authority and reapportioned funds and the 0.75 percent deduction for oversight (authorized by 49 U.S.C. 5327), and including funds apportioned to UZAs pursuant to Section 5340 for Growing States and High Density States.

Urbanized Area Formula Program
Total Appropriation | ᵃ $2,080,182,500
FY 2011 Contract Authority | 8,655,561
Oversight Deduction | −15,666,286
Section 5340 Funds Added | 196,585,277
Reapportioned Funds | 10,724,324
Total Apportioned | 2,280,481,376
ᵃ Includes one percent set-aside for Small Transit Intensive Cities Formula.

Table 3 displays the amounts apportioned under the Urbanized Area Formula Program.

2. Basis for Formula Apportionment

FTA apportions Urbanized Area Formula Program funds based on legislative formulas. Different formulas apply to UZAs with populations of 200,000 or more and to UZAs with populations less than 200,000. For UZAs with 50,000 to 199,999 in population, the formula is based solely on population and population density. For UZAs with populations of 200,000 and more, the formula is based on a combination of bus revenue vehicle miles, bus passenger miles, fixed guideway revenue vehicle miles, and fixed guideway route miles, as well as population and population density. Table 4 includes detailed information about the formulas.

To calculate a UZA's FY 2012 apportionment, FTA used population and population density statistics from the 2000 Census and (when applicable) validated mileage and transit service data from transit providers' 2010 National Transit Database (NTD) Report Year. Consistent with 49 U.S.C. 5336(b), FTA used 60 percent of the directional route miles attributable to the Alaska Railroad passenger operations system to calculate the apportionment for the Anchorage, Alaska UZA.

FTA has calculated dollar unit values for the formula factors used in the Urbanized Area Formula Program apportionment calculations. These values represent the amount of money each unit of a factor is worth in this year's apportionment. The unit values change each year, based on all of the data used to calculate the apportionments. The dollar unit values for FY 2012 are displayed in Table 5. To replicate the basic formula component of a UZA's apportionment, multiply the dollar unit value by the appropriate formula factor (i.e., the population, population x population density), and when applicable, data from the NTD (i.e., route miles, vehicle revenue miles, passenger miles, and operating cost).

In FY 2012, one percent of funds appropriated for Section 5307, or $20,801,825 based on Temporary Authorization, 2012 and Appropriations Act, 2012, is set aside for Small Transit Intensive Cities (STIC). FTA apportions these funds to UZAs under 200,000 in population that operate at a level of service equal to or above the industry average level of service for all UZAs with a population of at least 200,000, but not more than 999,999, in one or more of six performance categories: passenger miles traveled per vehicle revenue mile, passenger miles traveled per vehicle revenue hour, vehicle revenue miles per capita, vehicle revenue hours per capita, passenger miles traveled per capita, and passengers per capita.

The data for these categories for the purpose of FY 2012 apportionments comes from the NTD reports for the 2010 reporting year. This data is used to determine a UZA's eligibility under the STIC formula, and is also used in the STIC apportionment calculations. Because these performance data change with each year's NTD reports, the UZAs eligible for STIC funds and the amount each receives may vary each year. In FY 2012, FTA apportioned $55,976 for each performance factor/category for which the urbanized area exceeded the national average for UZAs with a population of at least 200,000 but not more than 999,999.

In addition to the funds apportioned to UZAs, according to the Section 5307 formula factors contained in 49 U.S.C. 5336, FTA also apportions funds to urbanized areas under Section 5340 Growing States and High Density States formula factors. In FY 2012, FTA apportions $79,851,565 to UZAs in growing States and $116,733,712 to UZAs in High Density States. Half of the funds appropriated for Section 5340 are available to Growing States and half to High Density States. FTA apportions Growing States funds by a formula based on State population forecasts for 15 years beyond the most recent Census. FTA distributes the amounts apportioned for each State between UZAs and nonurbanized areas based on the ratio of urbanized/nonurbanized population within each State in the 2000 census, and to UZAs proportionately based on UZA population in the 2000 census (because population estimates are not available at the UZA level). FTA apportions the High Density States funds to States with population densities in excess of 370 persons per square mile. These funds are apportioned only to UZAs within those States. FTA pro-rates each UZA's share of the High Density funds based on the population of the UZAs in the State in the 2000 census.

FTA cannot provide unit values for the Growing States or High Density formulas because the allocations to individual States and urbanized areas are based on their relative population data, rather than on a national per capita basis.

Based on language in the conference report accompanying SAFETEA-LU, FTA is to show a single apportionment amount for Section 5307, STIC and Section 5340. FTA shows a single Section 5307 apportionment amount for each UZA in Table 3, the Urbanized Area Formula apportionments. The amount includes funds apportioned based on the Section 5307 formula factors, any STIC funds, and any Growing States and High Density States funding allocated to the area. FTA uses separate formulas to calculate and generate the respective apportionment amounts for the Section 5307, STIC and Section 5340. For technical assistance purposes, the UZAs that received STIC funds are listed in Table 6. FTA will make available breakouts of the funding allocated to each UZA under these formulas, upon request to the regional office.

3. Program Requirements

Program guidance for the Urbanized Area Formula Program is currently found in FTA Circular 9030.1D, Urbanized Area Formula Program: Grant Application Instructions, dated May 1, 2010, and supplemented by additional information or changes provided in this document.

i. Urbanized Area Formula Apportionments to Governors

For small UZAs, those with a population of less than 200,000, FTA apportions funds to the Governor of each State for distribution. A single total Governor's apportionment amount for the Urbanized Area Formula, STIC, and Growing States and High Density States is shown in the Urbanized Area Formula Apportionment Table 3. The table also shows, for informational purposes, the apportionment amount that would be attributable by formula to each small UZA within the State. The Governor is not bound by the small UZA amounts published for informational purposes in this notice and shall determine the sub-allocation of funds among the small UZAs. The Governor's sub-allocation should be sent to the appropriate FTA Regional Office before grants are awarded.

ii. Transit Enhancements

Section 5307(d)(1)(K) requires that one percent of Section 5307 funds apportioned to UZAs with populations of 200,000 or more be spent on eligible transit enhancement activities or projects. This requirement is now treated as a certification, rather than as a set-aside as was the case under the Transportation Equity Act for the 21st Century (TEA-21). Designated recipients in UZAs with populations of 200,000 or more certify they are spending not less than one percent of Section 5307 funds for transit enhancements. In addition, Designated Recipients must submit an annual report on how they spent the money with the Federal fiscal year's final quarterly progress report in TEAM-Web. The report should include the following elements: (1) Grantee name; (2) UZA name and number; (3) FTA project number; (4) transit enhancement category; (5) brief description of enhancement and progress towards project implementation; (6) activity line item code from the approved budget; and (7) amount awarded by FTA for the enhancement. The list of transit enhancement categories and activity line item (ALI) codes may be found in the table of Scope and ALI codes on TEAM-Web, which can be accessed at http://FTATEAMWeb.fta.dot.gov.

The term “transit enhancement” includes projects or project elements that are designed to enhance public transportation service or use and are physically or functionally related to transit facilities. Eligible enhancements include the following: (1) Historic preservation, rehabilitation, and operation of historic mass transportation buildings, structures, and facilities (including historic bus and railroad facilities); (2) bus shelters; (3) landscaping and other scenic beautification, including tables, benches, trash receptacles, and street lights; (4) public art; (5) pedestrian access and walkways; (6) bicycle access, including bicycle storage facilities and installing equipment for transporting bicycles on mass transportation vehicles; (7) transit connections to parks within the recipient's transit service area; (8) signage; and (9) enhanced access for persons with disabilities to mass transportation.

It is the responsibility of the MPO to determine how the one-percent for transit enhancements will be allotted to transit projects. The one percent minimum requirement does not preclude more than one percent from being expended in a UZA for transit enhancements. However, activities that are only eligible as enhancements—in particular, operating costs for historic facilities—may be assisted only within the one-percent funding level.

iii. Transit Security Projects

Consistent with section 5307(d)(1)(J), each recipient of Urbanized Area Formula funds must certify that of the amount received each fiscal year, it will expend at least one percent on “public transportation security projects” or that it has decided the expenditure is not necessary. For applicants not eligible to receive Section 5307 funds for operating assistance, only capital security projects may be funded with the one percent. SAFETEA-LU, however, expanded the definition of eligible “capital” projects to include specific crime prevention and security activities, including: (1) Projects to refine and develop security and emergency response plans; (2) projects aimed at detecting chemical and biological agents in public transportation; (3) the conduct of emergency response drills with public transportation agencies and local first response agencies; and (4) security training for public transportation employees, but excluding all expenses related to operations, other than such expenses incurred in conducting emergency drills and training. The one percent may also include security expenditures included within other capital activities, and, where the recipient is eligible, operating assistance.

FTA is often called upon to report to Congress and others on how grantees are expending Federal funds for security enhancements. To facilitate tracking of grantees' security expenditures, which are not always evident when included within larger capital or operating activity line items in the grant budget, we have established a non-additive (“non-add”) scope code for security expenditures—Scope 991-00. The non-add scope is to be used to aggregate activities included in other scopes, and it does not increase the budget total. Section 5307 grantees should include this non-add scope in the project budget for each new Section 5307 grant application or amendment. Under this non-add scope, the applicant should repeat the full amount of any of the line items in the budget that are exclusively for security and include the portion of any other line item in the project budget that is attributable to security, using under the non-add scope the same line item used in the project budget. The grantee can modify the ALI description or use the extended text feature, if necessary, to describe the security expenditures.

The grantee must provide information regarding its use of the one percent for security as part of each Section 5307 grant application, using a special screen in TEAM-Web. If the grantee has certified that it is not necessary to expend one percent for security, the Section 5307 grant application must include information to support that certification. FTA will not process an application for a Section 5307 grant until the security information is complete.

iv. FY 2012 Operating Assistance

UZAs under 200,000 in population may use Section 5307 funds for operating assistance. In addition, Section 5307, as amended, allows some UZAs with a population of 200,000 or more to use Urbanized Area Formula funds for operating assistance under certain conditions. Temporary Authorization, 2012 extends that eligibility until March 31, 2012. The specific provisions allowing the limited use of operating assistance in large UZAs are as follows:

a. Section 5307(b)(1)(E) provides for grants for the operating costs of equipment and facilities for use in public transportation in the Evansville, IN-KY urbanized area, for a portion or portions of the UZA if “the portion” of the UZA includes only one State, the population of “the portion” is less than 30,000, and the grants will be not used to provide public transportation outside of “the portion” of the UZA.

b. Section 5307(b)(1)(F) provides operating costs of equipment and facilities for use in public transportation for local governmental authorities in areas which adopted transit operating and financing plans that became a part of the Houston, Texas, UZA as a result of the 2000 decennial census of population, but lie outside the service area of the principal public transportation agency that serves the Houston UZA.

c. Section 5336(a)(2) prescribes the formula to be used to apportion Section 5307 funds to UZAs with population of 200,000 or more. SAFETEA-LU amended 5336(a)(2) to add language that stated, “* * * except that the amount apportioned to the Anchorage urbanized area under subsection (b) shall be available to the Alaska Railroad for any costs related to its passenger operations.” This language has the effect of directing that funds apportioned to the Anchorage urbanized area, under the fixed guideway tiers of the Section 5307 apportionment formula, be made available to the Alaska Railroad, and that these funds may be used for any capital or operating costs related to its passenger operations.

d. Section 3027(c)(3) of TEA-21, as amended (49 U.S.C. 5307 note), provides an exception to the restriction on the use of operating assistance in a UZA with a population of 200,000 or more, by allowing transit providers/grantees that provide service exclusively to elderly persons and persons with disabilities and that operate 20 or fewer vehicles to use Section 5307 funds apportioned to the UZA for operating assistance. The total amount of funding made available for this purpose under Section 3027(c)(3) is $1.4 million. Transit providers/grantees eligible under this provision have already been identified and notified.

e. Section 5307(b)(2), as amended, allows, in FYs 2008 through 2011 and for the period October 1, 2011 through March 31, 2012, (1) UZAs that grew in population from under 200,000 to over 200,000 or that were under 200,000 but merged into another urbanized area and the population is over 200,000, as a result of the 2000 Census to use Section 5307 funds for operating assistance in an amount up to 50 percent of the grandfathered amount for FY 2002 funds; (2) Areas that were nonurbanized under the 1990 Census and became urbanized, as a result of the 2000 Census, to use no more than 50 percent of the amount apportioned to the area for FY 2003 for operating assistance; and (3) nonurbanized areas under the 1990 Census that merged into urbanized areas over 200,000, as a result of the 2000 Census, to use 50 percent of the amount the area received in FY 2002 Section 5311 funding for operating assistance. These allowances are shown in Table 3-A.

v. Treatment of Fuel and Electrical Propulsion Costs as Capital Maintenance

The Appropriations Act, 2012, permits FTA to treat fuel costs for vehicle operations, including utility costs for the propulsion of electrical vehicles, as a capital maintenance item for grants made in FY 2012 under the Urbanized Area Formula Program, up to a total of $100,000,000. The treatment of these costs as capital maintenance items means that they may be eligible for reimbursement under this program at an 80/20 matching rate. As explained in the preceding section, fuel costs are also eligible for reimbursement as an operating expense for UZAs under 200,000 in population, and under other special conditions noted above, but require a 50 percent match.

Since total obligations for this purpose are limited to $100,000,000, the use of funds for this purpose will be limited in amount, and will be available only to program recipients that respond to an upcoming announcement posted at www.grants.gov. Designated recipients for each Urbanized Area are directed to respond to this announcement with the dollar amount, out of their annual urbanized area apportionment funding, that they would like to apply to these costs for grants made in Fiscal Year 2012. While this provision applies to grants made during FY 2012, it is not limited to grants made using FY 2012 apportioned funds and may also include grants made during FY 2012 that contain prior year funds.

Recipients are directed to submit a request for the maximum dollar amount that they would elect to apply to capitalized fuel or propulsion under this provision based on the anticipated availability of full FY 2012 funding. Funds will be distributed as dollar caps for an interested urbanized area's Section 5307 apportionment. FTA will base the amount of the cap it allocates to each urbanized area that responds to the announcement on a fixed percentage applied to the Section 5307 apportionment of that urbanized area, not to exceed the amount requested. However, if all urbanized area 5307 recipients respond to the announcement, each could expect to be permitted to use no more than 2.2% of their annual formula apportionment amount for this purpose. Eligible respondents to this request are only the designated recipients for the urbanized area formula apportionment, including the State DOTs for areas under 200,000. The upcoming funding announcement will provide further direction. FTA will publish the distribution in a Federal Register notice.

Recipients are advised that this provision does not provide any funding in addition to their Section 5307 program apportionment. Funds granted under this provision will be treated as an alternative use of the eligible recipient's formula funding. Distribution of such funds among sub-recipients is subject to Federal planning requirements and will require coordination between the designated recipient(s), MPO, and other direct recipients of FTA funds. Funds sub-allocated to direct recipients within a UZA will be included in their FTA grants. Procurements to which these 5307 funds are applied must comply with Federal procurement requirements and include all applicable Federal procurement clauses.

Recipients, if selected to use this provision, will be required to obligate funds no later than September 30, 2012. Once funds are obligated, they will remain available until expended; funds can be requested for the applicant's current fiscal year plus one additional year. FTA does not plan to reallocate funding caps under this provision after it has been initially distributed.

Eligible designated recipients of Section 5307 funding that are interested in using funds under this provision are encouraged to become familiar with using grants.gov and are advised to monitor the site for the upcoming solicitation of interest. In addition, FTA recommends that grantees register for automatic email updates for Section 5307 Urbanized Area Formula Program on the FTA Web site. Further details will be posted with the announcement at www.grants.gov.

vi. Sources of Local Match

Consistent with Section 5307(e), the Federal share of an urbanized area formula grant is 80 percent of net project cost for a capital project and 50 percent of net project cost for operating assistance unless the recipient indicates a greater local share. The remainder of the net project cost (i.e., 20 percent and 50 percent, respectively) shall be provided from the following sources:

a. From non-Federal government sources other than revenues from providing public transportation services;

b. From revenues derived from the sale of advertising and concessions;

c. From an undistributed cash surplus, a replacement or depreciation cash fund or reserve, or new capital;

d. From amounts received under a service agreement with a State or local social service agency or private social service organization; and

e. Proceeds from the issuance of revenue bonds.

f. Funds from Section 403(a)(5)(C)(vii) of the Social Security Act (42 U.S.C. 603(a)(5)(C)(vii)) can be used to match Urbanized Area Formula funds.

vii. Designated Transportation Management Areas (TMA)

Guidance for setting the boundaries of TMAs is in the joint transportation planning regulations codified at 23 CFR Part 450 as referenced in 49 CFR Part 613. In some cases, the TMA planning boundaries established by the MPO for the designated TMA includes one or more small UZAs. In addition, one small UZA (Santa Barbara, CA) has been designated as a TMA by Secretary pursuant to section 5303(k). The Governor's Apportionment for small UZAs may include funds attributable to a small UZA designated as a TMA or within the planning boundaries of a TMA.

The list of small UZAs included within the planning boundaries of designated TMAs is provided in the table below.

Designated TMA | Small urbanized area included in TMA planning boundary
Albany, NY | Saratoga Springs, NY.
Houston, TX | Galveston, TX; Lake Jackson-Angleton, TX; Texas City, TX; The Woodlands, TX.
Jacksonville, FL | St. Augustine, FL.
Orlando, FL | Kissimmee, FL.
Palm Bay-Melbourne, FL | Titusville, FL.
Philadelphia, PA-NJ-DE-MD | Pottstown, PA.
Pittsburgh, PA | Monessen, PA; Weirton, WV-Steubenville, OH-PA (PA portion); Uniontown-Connellsville, PA.
Seattle, WA | Bremerton, WA.
Washington, DC-VA-MD | Frederick, MD.

Section 5303(k) provides that the Secretary shall designate “any additional area as a transportation management area on the request of the Governor and the MPO designated for the area.” In the event a Governor and an MPO determine that a small UZA should be a TMA or included within the boundaries of a TMA, the MPO and Governor must jointly request such designation from the Associate Administrator for Program Management, Federal Transit Administration, 1200 New Jersey Avenue SE., Washington, DC 20590, in writing, no later than July 1 of each year of the identity of any small UZA within the planning boundaries of a TMA.

viii. Urbanized Area Formula Funds Used for Highway Purposes

Funds apportioned to a TMA are eligible for transfer to FHWA for highway projects, if the Designated Recipient has allocated a portion of the area's Section 5307 funding for such use. However, before funds can be transferred, the following conditions must be met: (1) Approval by the MPO in writing, after appropriate notice and opportunity for comment and appeal are provided to affected transit providers; (2) a determination of the Secretary that funds are not needed for investments required by the Americans with Disabilities Act of 1990 (ADA); and (3) the MPO determines that local transit needs are being addressed.

The MPO should notify the appropriate FTA Regional Administrator of its intent to use FTA funds for highway purposes. Urbanized Area Formula funds that are designated by the MPO for highway projects and meet the conditions cited in the previous paragraph will be transferred to and administered by FHWA.

4. Period of Availability

The Urbanized Area Formula Program funds apportioned in this notice are available for obligation during the year of apportionment plus three additional years. Accordingly, these funds must be obligated in grants by September 30, 2015. Any apportioned funds that remain unobligated at the close of business on September 30, 2015 will revert to FTA for reapportionment under the Urbanized Area Formula Program.

5. Other Program or Apportionment Related Information and Highlights

In each UZA with a population of 200,000 or more, the Governor, in consultation with responsible local officials and publicly owned operators of public transportation, has designated one or more entities to be the Designated Recipient for Section 5307 funds apportioned to the UZA. The same entity(s) may or may not be the Designated Recipient for the Job Access and Reverse Commute (JARC) and New Freedom program funds apportioned to the UZA. In UZAs under 200,000 in population, the State is the Designated Recipient for Section 5307, as well as JARC and New Freedom programs. The Designated Recipient for Section 5307 may authorize other entities to apply directly to FTA for Section 5307 grants pursuant to a supplemental agreement. While the requirement that projects selected for funding be included in a locally developed coordinated public transit/human service transportation plan is not included in Section 5307 as it is in Sections 5310, 5316 (JARC) and 5317 (New Freedom), FTA expects that in their role as public transit providers, recipients of Section 5307 funds will be participants in the local planning process for these programs.

D. Clean Fuels Grant Program (49 U.S.C. 5308)

The Clean Fuels Grant program is a discretionary grant program that supports the use of alternative fuels in air quality maintenance or nonattainment areas for ozone or carbon monoxide through capital grants to urbanized areas for clean fuel vehicles and facilities. Funds will be distributed in response to a discretionary competition announced in the Federal Register during the first quarter of calendar year 2012. For more information about this program contact Vanessa Williams, Office of Program Management, at (202) 366-4818.

1. FY 2012 Funding Availability

The Temporary Authorization, 2012 provides $25,750,000 in contract authority for the period October 1, 2011 through March 31, 2012 for the Clean Fuels Program. After the addition of available FY 2011 contract authority, a total of $25,857,145 is thus far available for grants, as shown in the table below.

Clean Fuels Program
Total Appropriated | $25,750,000
FY 2011 Contract Authority | 107,145
Total Apportioned | 25,857,145

2. Requirements

Clean Fuels Grant program funds may be made available to any grantee in a UZA that is designated as maintenance or nonattainment area for ozone or carbon monoxide as defined in the Clean Air Act. Eligible recipients include section 5307 Designated Recipients as well as recipients in small UZAs. The State in which a small UZA is located will act as the recipient of funds. Eligible projects include the purchase or lease of clean fuel buses, the construction or lease of clean fuel or electrical recharging facilities and related equipment for such buses, and construction or improvement of public transportation facilities to accommodate clean fuel buses.

3. Period of Availability

Clean Fuels Program funds are available for three years, which includes the year the funds are allocated to a project through a notice of award or appropriation plus two. FY 2012 funds will be distributed through a competitive discretionary process, which will be announced in a Federal Register Notice of Funding Availability during the first quarter of calendar year 2012.

4. Other Program or Apportionment Related Information and Highlights

Table 7 lists prior year carryover of $13,761,707 for Clean Fuels projects allocated FY 2010 program funds. These projects were announced during FY 2011 and are available for obligation until September 30, 2013. For more information about the FY 2011 Clean Fuels Grant Program award announcements, please visit www.gpo.gov/fdsys/pkg/FR-2011-12-12/pdf/2011-31694.pdf (Federal Register Citation: 76 FR 77302—FTA Sustainability Program Funds: Announcement of Project Selections, December 12, 2011).

E. Capital Investment Program (49 U.S.C. 5309)—Fixed Guideway Modernization

This program provides capital assistance for the maintenance, recapitalization, and modernization of existing fixed guideway systems. Funds are apportioned by a statutory formula to UZAs with fixed guideway systems that have been in operation for at least seven years. A “fixed guideway” refers to any transit service that uses exclusive or controlled rights-of-way or rails, entirely or in part. The term includes heavy rail, commuter rail, light rail, monorail, trolleybus, aerial tramway, inclined plane, cable car, automated guideway transit, ferryboats, that portion of motor bus service operated on exclusive or controlled rights-of-way, and high-occupancy-vehicle (HOV) lanes. Eligible applicants are the public transit authorities in those urbanized areas to which the funds are apportioned. For more information about Fixed Guideway Modernization contact Kimberly Sledge, Office of Transit Programs, at (202) 366-2053.

1. FY 2012 Funding Availability

The Temporary Authorization, 2012 provides $833,250,000 in contract authority for the period October 1, 2011 through March 31, 2012 for the Fixed Guideway Modernization Program. Thus far, the total amount apportioned for the Fixed Guideway Modernization Program is $831,257,145, after the addition of available FY 2011 contract authority and reapportioned funds and deductions for oversight, as shown in the table below.

Fixed Guideway Modernization Program
Total Appropriation | $833,250,000
FY 2011 Contract Authority | 3,467,122
Oversight Deduction (total) | −8,367,171
Reapportioned Funds | 363,287
Total Apportioned | 831,257,145

The FY 2012 Fixed Guideway Modernization Program apportionments to eligible areas are displayed in Table 8.

2. Basis for Formula Apportionment

The formula for allocating the Fixed Guideway Modernization funds contains seven tiers. The apportionment of funding under the first four tiers is based on amounts specified in law and NTD data used to apportion funds in FY 1997. Funding under the last three tiers is apportioned based on the latest available data on route miles and revenue vehicle miles on segments at least seven years old, as reported to the NTD. Section 5337(f) of title 49, U.S.C. provides for the inclusion of Morgantown, West Virginia (population 55,997) as an eligible UZA for purposes of apportioning fixed guideway modernization funds. Also, consistent to 49 U.S.C. 5336(b), FTA uses 60 percent of the directional route miles attributable to the Alaska Railroad passenger operations system to calculate the apportionment for the Anchorage, Alaska UZA under the Section 5309 Fixed Guideway Modernization formula.

FY 2012 Formula apportionments are based on data grantees provided to the NTD for the 2010 reporting year. Table 9 provides additional information and details on the formula. Dollar unit values for the formula factors used in the Fixed Guideway Modernization Program are displayed in Table 5. To replicate an area's apportionment, multiply the dollar unit value by the appropriate formula factor, i.e., route miles and revenue vehicle miles.

3. Program Requirements

Fixed Guideway Modernization funds must be used for capital projects to maintain, modernize, or improve fixed guideway systems. Eligible UZAs (those with a population of 200,000 or more) with fixed guideway systems that are at least seven years old are entitled to receive Fixed Guideway Modernization funds. A threshold level of more than one mile of fixed guideway is required in order to receive Fixed Guideway Modernization funds. Therefore, UZAs reporting one mile or less of fixed guideway mileage under the NTD are not included. However, funds apportioned to an urbanized area may be used on any fixed guideway segment in the UZA. Program guidance for Fixed Guideway Modernization is presently found in FTA Circular C9300.1B, Capital Facilities and Formula Grant Programs, dated November 1, 2008.

4. Period of Availability

The funds apportioned in this notice under the Fixed Guideway Modernization Program remain available to recipients to be obligated in a grant during the year of appropriation plus three additional years. FY 2012 Fixed Guideway Modernization funds that remain unobligated at the close of business on September 30, 2015, will revert to FTA for reapportionment under the Fixed Guideway Modernization Program.

F. Capital Investment Program (49 U.S.C. 5309)—Bus and Bus-Related Facilities

This program provides capital assistance for new and replacement buses, and related equipment and facilities. Funds are allocated on a discretionary basis. Eligible purposes are acquisition of buses for fleet and service expansion, bus maintenance and administrative facilities, transfer facilities, bus malls, transportation centers, intermodal terminals, park-and-ride stations, acquisition of replacement vehicles, bus rebuilds, bus preventive maintenance, passenger amenities such as passenger shelters and bus stop signs, accessory and miscellaneous equipment such as mobile radio units, supervisory vehicles, fare boxes, computers, and shop and garage equipment. Eligible applicants are State and local governmental authorities. Eligible sub-recipients include other public agencies, private companies engaged in public transportation and private non-profit organizations.

For more information about Bus and Bus-Related Facilities (Bus Program) contact Samuel Snead, Office of Transit Programs, at (202) 366-1089.

1. FY 2012 Funding Availability

The Temporary Authorization, 2012 provides $492,000,000 in contract authority for the period October 1, 2011 through March 31, 2012 for the Bus and Bus-Related Facilities program. The total amount apportioned for the program thus far is $489,106,722, after the addition of available FY 2011 contract authority and deductions for oversight, as shown in the table below.

Bus and Bus-Related Facilities
Total Appropriated | $492,000,000
FY 2011 Contract Authority | 2,047,194
Oversight Deduction | −4,940,472
Total Apportioned | 489,106,722

2. Basis for Allocation

FY 2012 Bus and Bus-Related Facilities program allocations are shown in Table 10. Allocations include nine Section 5309 Capital Investment Program New and Small Starts Bus Rapid Transit (BRT) projects, which are funded through the Bus and Bus-Related Facilities program in FY 2012.

Unallocated 2012 Bus and Bus-Related Facilities Program funds will be distributed through discretionary program competitions. FY 2012 discretionary competitions will include a State of Good Repair program, a Bus Livability program and a Veterans Transportation and Community Living Initiative. FTA will publish one or more Notices of Funding Availability (NOFAs) during the first quarter of calendar year 2012 to announce these discretionary program competitions. Specific program requirements and selection criteria will be published in the relevant notices of funding availability (NOFA).

3. Requirements

Program guidance for Bus and Bus-Related Facilities is found in FTA Circular C9300.1B, “Capital Investment Program Guidance and Application Instructions,” (November 1, 2008) and in subsequent notices of funding availability for each discretionary program.

4. Period of Availability

Section 5309 Bus and Bus-Related Facilities funds are available for three years, which includes the year the funds are allocated to a project through a notice of award or appropriation plus two. Fiscal Year 2012 Bus and Bus-Related Facilities allocations, including the Ferry Boat Allocations for FY 2010-2012, listed in Table 10 not obligated in an FTA grant for eligible purposes by September 30, 2014 may be made available for other Bus and Bus-Related Facilities projects under Section 5309 during the following fiscal year.

5. Other Program or Allocation Related Information and Highlights

Prior year unobligated balances for Bus and Bus-Related allocations in the amount of $367,630,155 remain available for obligation in FY 2012. The prior year carryover amounts are displayed in Table 11. Footnotes are included in Table 11 to identify the period of availability for each of these allocations. These tables do not include funds allocated in the recent discretionary competitions announced after September 30, 2011.

This notice publishes the allocation of funds for Section 5309 Ferry Boat Systems projects for FY 2010, FY 2011, and FY 2012. These projects are shown in Table 10. The list of FY 2010 Ferryboat projects replaces the projects published in the FTA FY 2010 apportionment notice (February 16, 2010, Table 10), which incorrectly published a list of Ferry Boat Systems projects administered by the Federal Highway Administration (FHWA).

For more information about the FY 2011 Bus Livability Program award announcements, please visit www.gpo.gov/fdsys/pkg/FR-2011-11-07/pdf/2011-28779.pdf. (Federal Register Citation: 76 FR 68813-FY 2011 Discretionary Livability Funding Opportunity; Section 5309 Bus and Bus Facilities Livability Initiative Program Grants and Section 5339 Alternatives Analysis Program, November 7, 2011.)

For more information about the FY 2011 State of Good Repair Program award announcements, please visit www.gpo.gov/fdsys/pkg/FR-2011-11-07/pdf/2011-28774.pdf. (Federal Register Citation: 76 FR 68819—State of Good Repair Bus and Bus Facilities Discretionary Program Funds, November 7, 2011.)

For more information about the FY 2011 Veterans Transportation and Community Living Initiative award announcements, please visit www.gpo.gov/fdsys/pkg/FR-2011-12-19/pdf/2011-32447.pdf (Federal Register Citation: 76 FR 78732-FY 2011 Discretionary Funding Opportunity; Section 5309 Bus and Bus Facilities Veterans Transportation and Community Living Initiative, December 19, 2011).

G. Capital Investment Program (49 U.S.C. 5309)—New and Small Starts

The New Starts program provides funds for construction of new fixed guideway systems or extensions to existing fixed guideway systems. Eligible purposes are light rail, rapid rail (heavy rail), commuter rail, monorail, automated fixed guideway system (such as a “people mover”), or a busway/high occupancy vehicle (HOV) facility, Bus Rapid Transit that is fixed guideway, or an extension of any of these. Eligible purposes for the Small Starts program are those mentioned for the New Starts program, as well as corridor based bus systems that do not operate on a fixed guideway but include elements such as substantial transit stations, signal priority or pre-emption, branding of vehicles, and service frequencies of 10 minutes during peak periods and 15 minutes during off peak periods for at least 14 hours per day.

Projects become candidates for funding under this program by successfully completing the appropriate steps in the major capital investment planning and project development process, which includes evaluation and rating by FTA based on several statutorily-defined criteria. Major new fixed guideway projects, or extensions to existing systems, financed with New Starts funds typically receive these funds through a full funding grant agreement (FFGA) that defines the scope of the project and specifies the total multi-year Federal commitment to the project. Small Starts projects typically receive funds through a project construction grant agreement (PCGA) that defines the scope of the project and specifies the Federal commitment to the project or a single year construction grant if the Small Starts contribution is $25 million or less and has already been appropriated.

For more information about the New or Small Starts project development process or evaluation and rating process contact Elizabeth Day, Office of Planning and Environment, at (202) 366-4033, or for information about published allocations contact Eric Hu, Office of Transit Programs, at (202) 366-0870.

1. FY 2012 Funding Availability

The Appropriations Act, 2012 appropriated $1,955,000,000 to the major capital investment program (New and Small Starts) for the full fiscal year. Thus far, the total amount allocated for the major capital investment program (New and Small Starts) is $1,935,450,000, after the one percent deduction for oversight, is shown in the table below.

Capital Investment Program (New Starts)
Total Appropriation | $1,955,000,000
Oversight (one percent) | −19,550,000
Total Available | 1,935,450,000

2. Basis for Allocation

Congress included authorizations for specific New Starts projects with Full Funding Grant Agreements (FFGA) in SAFETEA-LU. Funds allocated to specific projects are shown in Table 12. These non-discretionary allocations amount to $1,388,515,000. Table 12 also includes a discretionary allocation of $35,481,000 for the Small Starts Project Central Mesa LRT Extension (Mesa, AZ). Unallocated funds total $511,454,000.

The Appropriations Bill, 2012 includes a rescission of $58,500,000 of unspent funds appropriated in FY 2009 under Public law 111-8.

3. Requirements

FY 2010 New Starts projects were earmarked in law. Thus, reprogramming for a purpose other than that specified must also occur in law. While FY 2012 New Starts projects were identified in conference report accompanying the Appropriations Act, 2012 and not the Act itself, New Starts projects are subject to a complex set of approvals related to planning and project development set forth in 49 CFR Part 611. FTA has published a number of rulemakings and interim guidance documents related to the New Starts program since the passage of SAFETEA-LU. Grantees should reference the FTA Web site at www.fta.dot.gov for the most current program guidance about project developments and management. Grant related guidance for New Starts is found in FTA Circular C9300.1B, Capital Investment Program Guidance and Application Instructions dated November 1, 2008; and C5200.1A, Full Funding Grant Agreement Guidance, dated December 5, 2002.

4. Period of Availability

New Starts funds that remain unobligated to the projects designated the funds after three fiscal years (including the fiscal year the funds are allocated plus two additional years) may be made available for other section 5309 New Start projects. Therefore, corresponding funds for projects identified in the FY 2012 conference report must be obligated for the project by September 30, 2014.

5. Other Program or Apportionment Related Information and Highlights

Prior year FY 2010 and FY 2011 unobligated discretionary and non-discretionary allocations for New Starts, including Urban Circulator projects, in the amount of $1,323,217,298 remain available for obligation in FY 2012. These unobligated amounts are displayed in Table 13.

H. Special Needs of Elderly Individuals and Individuals With Disabilities Program (49 U.S.C. 5310)

This program provides formula funding to States for capital projects to assist private nonprofit groups in meeting the transportation needs of the elderly and individuals with disabilities when the public transportation service provided in the area is unavailable, insufficient, or inappropriate to meet these needs. A State agency designated by the Governor administers the Section 5310 program. The State's responsibilities include: notifying eligible local entities of funding availability; developing project selection criteria; determining applicant eligibility; selecting projects for funding; and ensuring that all sub-recipients comply with Federal requirements. Eligible nonprofit organizations or public bodies must apply directly to the designated State agency for assistance under this program. For more information about the Elderly and Individuals with Disabilities Program contact Gil Williams, Office of Transit Programs, at (202) 366-0797.

1. FY 2012 Funding Availability

The Temporary Authorization, 2012 provides $66,750,000 in contract authority for the period October 1, 2011 through March 31, 2012 for the Elderly and Individuals with Disabilities Program (49 U.S.C. 5310). After deduction of 0.5 percent for oversight, and the addition of reapportioned prior year funds, $67,055,892 remains available for allocation to the States. The FY 2012 Elderly and Individuals with Disabilities Program apportionments to the States are displayed in Table 14.

Elderly and Individuals With Disabilities Program
Total Appropriation | $66,750,000
FY 2011 Contract Authority | 277,744
Oversight Deduction | −335,139
Reapportioned Funds | 363,287
Total Apportioned | 67,055,892

2. Basis for Apportionment

FTA allocates funds to the States by an administrative formula consisting of a $125,000 floor for each State ($50,000 for smaller territories) with the balance allocated based on 2000 Census population data for persons aged 65 and over and for persons with disabilities.

3. Requirements

Funds are available to support the capital costs of transportation services for older adults and people with disabilities. Uniquely under this program, eligible capital costs include the acquisition of service. Seven specified States (Alaska, Louisiana, Minnesota, North Carolina, Oregon, South Carolina, and Wisconsin) may use up to 33 percent of their apportionment for operating assistance under the terms of the SAFETEA-LU Section 3012(b) pilot program.

Capital assistance is provided on an 80 percent Federal, 20 percent local matching basis except that Section 5310(c) allows States eligible for a higher match under the sliding scale for FHWA programs to use that match ratio for Section 5310 capital projects. Operating assistance is 50 percent Federal, 50 percent local. Funds provided under other Federal programs (other than those of the DOT, with the exception of the Federal Lands Highway Program established by 23 U.S.C. 204) may be used as match. Revenue from service contracts may also be used as local match.

While the assistance is intended primarily for private non-profit organizations, public bodies approved by the State to coordinate services for the elderly and individuals with disabilities, or any public body that certifies to the State that there are no non-profit organizations in the area that are readily available to carry out the service, may receive these funds.

States may use up to ten percent of their annual apportionment to administer, plan, and provide technical assistance for a funded project. No local share is required for these program administrative funds. Funds used under this program for planning must be shown in the United Planning Work Program (UPWP) for MPO(s) with responsibility for that area.

The State recipient must certify that: The projects selected were derived from a locally developed, coordinated public transit-human services transportation plan; and, the plan was developed through a process that included representatives of public, private, and nonprofit transportation and human services providers and participation by the public. The locally developed, coordinated public transit-human services transportation planning process must be coordinated and consistent with the metropolitan and statewide planning processes and funding for the program must be included in the metropolitan and statewide Transportation Improvement Program (TIP and STIP) at a level of specificity or aggregation consistent with State and local policies and procedures. Finally, the State must certify that allocations to sub-recipients are made on a fair and equitable basis.

The coordinated planning requirement is a requirement in two additional programs. Projects selected for funding under the Job Access Reverse Commute program and the New Freedom program also are required to be derived from a locally developed coordinated public transit/human service transportation plan. FTA anticipates that most areas will develop one consolidated plan for all the programs, which may include separate elements and other human service transportation programs.

The Section 5310 program is subject to the requirements of Section 5307 formula program to the extent the Secretary determines appropriate. Program guidance is found in FTA Circular 9070.1F, dated May 1, 2007. The circular is posted on the FTA Web site at www.fta.dot.gov.

4. Period of Availability

Section 5310 funds are available for three years, which includes the year of apportionment plus two. Fiscal Year 2012 Section 5310 funds not obligated in an FTA grant for eligible purposes by September 30, 2014 will revert to FTA for reapportionment among the States under the Elderly and Individuals with Disabilities Program.

5. Other Program or Apportionment Related Information and Highlights

States may transfer Section 5310 funds to Section 5307 or Section 5311, but only for projects selected under the Section 5310 program, not as a general supplement for those programs. FTA anticipates that the States would use this flexibility primarily for projects to be implemented by a Section 5307 recipient in a small urbanized area, or for federally recognized Indian Tribes that elect to receive funds as a direct recipient from FTA under Section 5311. A State that transfers Section 5310 funds to Section 5307 must certify that each project for which the funds are transferred has been coordinated with private nonprofit providers of services. FTA has established a scope code (641) in the TEAM grant system to track Section 5310 projects included within a Section 5307 or 5311 grant. Transfer to Section 5307 or 5311 is permitted, but not required. FTA expects primarily to award stand-alone Section 5310 grants to the State for any and all sub-recipients.

6. Performance Measures

To support the evaluation of the program, FTA has established performance measures for the Section 5310 program, which should be submitted with the State's annual program of projects status report on October 31, 2012. States should submit performance measures on behalf of their sub-recipients. Information on the Section 5310 performance measures can be found at http://www.fta.dot.gov/laws/circulars/leg_reg_6622.html.

I. Nonurbanized Area Formula Program (49 U.S.C. 5311)

This program provides formula funding to States and Indian Tribes for the purpose of supporting public transportation in areas with a population of less than 50,000. Funding may be used for capital, operating, State administration, and project administration expenses. Eligible sub-recipients include State and local governmental authority, Indian Tribes, private non-profit organizations, and private operators of public transportation services, including intercity bus companies. Indian Tribes are also eligible direct recipients under Section 5311, both for funds apportioned to the States and for projects selected to be funded with funds set aside for a separate Tribal Transit Program. For more information about the Nonurbanized Area Formula Program contact Lorna Wilson, Office of Transit Programs, at (202) 366-0893.

1. FY 2012 Funding Availability

The Temporary Authorization, 2012 provides $232,500,000 in contract authority for the Nonurbanized Area Formula Program (49 U.S.C. 5311) for the period October 1, 2011 through March 31, 2012. Thus far, the total amount apportioned for the Nonurbanized Area Formula Program is $269,879,990 after take-downs of two percent for the Rural Transportation Assistance Program (RTAP), 0.5 percent for oversight, and $7,500,000 for the Tribal Transit Program, and the addition of Section 5340 funding for Growing States and of reapportioned funds, as shown in the table below.

Nonurbanized Area Formula Program
Total Appropriation | $232,500,000
FY 2011 Contract Authority | 916,869
Oversight Deduction | −1,167,337
Tribal Takedown | −7,500,000
RTAP Takedown | −4,650,000
Section 5340 Funds Added | 36,882,147
Reapportioned Funds | 748,311
Total Apportioned | 269,879,990

The FY 2012 Nonurbanized Area Formula apportionments to the States are displayed in Table 15.

2. Basis for Apportionments

FTA apportions the funds after take-down for oversight, the Tribal Transit Program, and RTAP according to a statutory formula. FTA apportions the first twenty percent to the States based on land area in nonurbanized areas with no state receiving more than 5 percent of the amount apportioned. FTA apportions the remaining eighty percent based on nonurbanized population of each State relative to the national nonurbanized population. FTA does not apportion Section 5311 funds to the Virgin Islands, which by a statutory exception are treated as an urbanized area for purposes of the Section 5307 formula program.

FTA is allocating $36,729,317 to the States and territories for nonurbanized areas from the Growing States portion of Section 5340. FTA apportions Growing States funds by a formula based on State population forecasts for 15 years beyond the most recent census. FTA distributes the amounts apportioned for each State between UZAs and nonurbanized areas based on the ratio of urbanized/nonurbanized population within each State in the 2000 census.

3. Program Requirements

The Nonurbanized Area Formula Program provides capital, operating and administrative assistance for public transit service in nonurbanized areas under 50,000 in population.

The Federal share for capital assistance is 80 percent and for operating assistance is 50 percent, except that States eligible for the sliding scale match under FHWA programs may use that match ratio for Section 5311 capital projects and 62.5 percent of the sliding scale capital match ratio for operating projects.

Each State must spend no less than 15 percent of its FY 2012 Nonurbanized Area Formula apportionment for the development and support of intercity bus transportation, unless the State certifies, after consultation with affected intercity bus service providers, that the intercity bus service needs of the State are being adequately met. FTA also encourages consultation with other stakeholders, such as communities affected by loss of intercity service.

Each State prepares an annual program of projects, which must provide for fair and equitable distribution of funds within the States, including Indian reservations, and must provide for maximum feasible coordination with transportation services assisted by other Federal sources.

To retain eligibility for funding, recipients of Section 5311 funding must report data annually to the NTD. Additional information on NTD reporting is contained in paragraph 5 of this section, below.

Program guidance for the Nonurbanized Area Formula Program is found in FTA Circular 9040.1F, “Nonurbanized Area Formula Program Guidance and Grant Application Instructions,” dated April 1, 2007. The circular is posted at www.fta.dot.gov.

4. Period of Availability

Section 5311 Nonurbanized Area Formula Program funds are available for three years, which includes the year of appropriation, plus two. Fiscal Year 2012 Nonurbanized Area Formula funds not obligated in an FTA grant for eligible purposes by September 30, 2014 will revert to FTA for reapportionment among the States under the Nonurbanized Area Formula Program.

5. Other Program or Apportionment Related Information and Highlights

i. NTD Reporting

By law, FTA requires that each recipient under the Section 5311 program submit an annual report to the NTD containing information on capital investments, operations, and service provided with funds received under the Section 5311 program. Section 5311(b)(4), as amended by SAFETEA-LU, specifies that the report shall include information on total annual revenue, sources of revenue, total annual operating costs, total annual capital costs, fleet size and type, and related facilities, revenue vehicle miles, and ridership. State or Territorial DOT 5311 grant recipients must complete a one-page form of basic data for each 5311 sub-recipient, unless the sub-recipient is already providing a full report to the NTD as a Tribal Transit direct recipient or as an urbanized area reporter (without receiving a Nine or Fewer Vehicles Waiver). For the 2012 Report Year, State or Territorial DOTs must report on behalf of any sub-recipient receiving Section 5311 grants in 2012, or that continued to benefit in 2012 from capital assets purchased using Section 5311 grants. Tribal Transit direct recipients must report if they received an obligation or an outlay for a Section 5311 grant in 2012, or if they continued to benefit in 2012 from capital assets using Section 5311 Grants, unless the Tribe is already filing a full NTD Report as an urbanized area reporter or unless the Tribe only received $50,000 or less in planning grants. The NTD Rural Reporting Manual contains detailed reporting instructions and is posted on the NTD Web site, www.ntdprogram.gov.

ii. Extension of Intercity Bus Pilot of In-Kind Match

Beginning in FY 2007, FTA implemented a two year pilot program of in-kind match for intercity bus service. The initial program was set to expire after FY 2008; however, FTA decided to extend the program through FY 2011. Through this notice FTA extends the In-Kind Match program through FY 2012. FTA published guidance on the in-kind match pilot in the Federal Register on February 28, 2007, as Appendix 1 of the Notice announcing the final revised circular 9040.1F, which is available at www.fta.dot.gov.

J. Rural Transportation Assistance Program (49 U.S.C. 5311(b)(3))

This program provides funding to assist in the design and implementation of training and technical assistance projects, research, and other support services tailored to meet the needs of transit operators in nonurbanized areas. For more information about Rural Transportation Assistance Program (RTAP) contact Lorna Wilson, Office of Transit Programs, at (202) 366-0893.

1. FY 2012 Funding Availability

The Temporary Authorization, 2012 provides $4,650,000 in contract authority for RTAP (49 U.S.C. 5311(b)(2)), as a two percent takedown from the funds appropriated for Section 5311 for the period October 1, 2011 through March 31, 2012. FTA has reserved 15 percent for the National RTAP program. After the reservation for the National RTAP program and the addition of FY 2011 contract authority and reapportioned funds, thus far a total of 4,105,923 is available for allocation to the States, as shown in the table below.

Rural Transit Assistance Program
Total Appropriation | $4,650,000
FY 2011 Contract Authority | 19,348
National RTAP Takedown | −697,500
Reapportioned Funds | 134,075
Total Apportioned | 4,105,923

Table 15 shows the FY 2012 RTAP allocations to the States.

2. Basis for Allocation

FTA allocates funds to the States by an administrative formula. First, FTA allocates $65,000 to each State ($10,000 to territories), and then allocates the balance based on nonurbanized population in the 2000 census.

3. Program Requirements

States may use the funds to undertake research, training, technical assistance, and other support services to meet the needs of transit operators in nonurbanized areas. These funds are to be used in conjunction with a State's administration of the Nonurbanized Area Formula Program, but also may support the rural components of the Section 5310, JARC, and New Freedom programs.

4. Period of Availability

Section 5311 RTAP funds are available for three years, which includes the year the funds are made available to a project through a notice of award, plus two.

5. Other Program or Apportionment Related Information and Highlights

The National RTAP project is administered by cooperative agreement and re-competed at five-year intervals. In FY 2008, FTA awarded the cooperative agreement to the Neponset Valley Transportation Management Association (NVTMA) located in Waltham, Massachusetts through a competitive process. The National RTAP projects are guided by a project review board that consists of managers of rural transit systems and State DOT RTAP programs. National RTAP resources also support the biennial TRB National Conference on Rural Public and Intercity Bus Transportation and other research and technical assistance projects of a national scope.

K. Public Transportation on Indian Reservations Program (49 U.S.C. 5311(c)(1))

FTA refers to this program as the Tribal Transit Program. It is funded as a takedown from funds made available for the Section 5311 program. Eligible direct recipients are federally recognized Indian Tribes. The funds are to be allocated for grants to Indian Tribes for any purpose eligible under Section 5311, which includes capital, operating, planning, and administrative assistance for rural public transit services and rural intercity bus service. For more information about the Tribal Transit Program contact Lorna Wilson, Office of Transit Programs, at (202) 366-0893.

1. Funding Availability in FY 2012

Based on the Temporary Authorization, 2012 FTA is allocating $7,500,000 for the Tribal Transit Program for the period October 1, 2011 through March 31, 2012. After the addition of available FY 2011 contract authority and reapportioned funds, and the deduction of FY 2012 funds apportioned to the program in FY 2011, a total of $8,020,905 is available for grants, as shown in the table below.

Tribal Transit Program
Total Appropriated | $7,500,000
FY 2011 Contract Authority | 31,207
FY 2011 Program Apportionment | −36,410
Reapportioned Funds | 489,698
Total Apportioned | 8,020,905

2. Basis for Allocation

Based on procedures developed in consultation with the Tribes, FTA will issue a Notice of Funding Availability (NOFA) soliciting applications for FY 2012 funds. Projects are competitively selected based on the criteria published in the NOFA.

3. Requirements

FTA developed streamlined program requirements based on statutory authority allowing the Secretary to determine the terms and conditions appropriate to the program. These conditions are contained in the annual NOFA. Beginning with grants awarded in FY 2009, the grant agreement has incorporated the statement of warranty for labor protective arrangements, and tribal grants will be submitted to the Department of Labor (DOL) for information upon FTA approval. Projects funded under the Tribal Transit Program are not required to have local match.

4. Period of Availability

Section 5311 Tribal Transit funds are available for three years, which includes the year of allocation, plus two. Fiscal Year 2012 Tribal Transit funds announced during FY 2012 that are not obligated in an FTA grant for eligible purposes by September 30, 2014 may be made available for other Tribal Transit projects under Section 5311 during the following fiscal year.

5. Other Program Changes and Highlights

The funds set aside for the Tribal Transit Program are not meant to replace or reduce funds that Indian Tribes receive from States through the Section 5311 program but are to be used to enhance public transportation on Indian reservations and transit serving tribal communities. Funds allocated to Tribes by the States may be included in the State's Section 5311 application or awarded by FTA in a grant directly to the Tribe. We encourage Tribes intending to apply to FTA as direct recipients to contact the appropriate FTA regional office at the earliest opportunity.

Technical assistance for Tribes may be available from the State DOT using the State's allocation of RTAP or funds available for State administration under Section 5311, from the Tribal Transportation Assistance Program (TTAP) Centers supported by FHWA, and from the Community Transportation Association of America under a program funded by the United States Department of Agriculture (USDA). The National RTAP will also be developing new resources for Tribal Transit. The National RTAP program, in conjunction with FTA, will be hosting a Tribal Transit Training and Technical Assistance meeting in Scottsdale, Arizona from March 18-21, 2012. Tribes who have active grants with FTA's Tribal Transit program are encouraged to attend the two and half day training session. For more information contact Lorna Wilson, Program Manager at (202) 366-0893 or visit the National RTAP Web site regarding preliminary conference logistics at http://www.nationalrtap.org.

Table 16 lists prior year carryover of $6,373,776 for Tribal Transit program projects allocated project funding in FY 2010. The FY 2010 allocations were announced on March 30, 2011 and are available for obligation until September 30, 2013. For more information about the FY 2011 Tribal Transit program selections announced on December 1, 2011, please visit www.fta.dot.gov/tribaltransit. FTA anticipates publishing its FY 2011 Tribal Transit Program Notice of Award, formally announcing the FY 2011 program selections, in the Federal Register in early January.

L. Growing States and High Density States Formula Factors (49 U.S.C. 5340)

The Temporary Authorization, 2012 makes $232,500,000 in contract authority available for apportionment in accordance with the formula factors prescribed for Growing States and High Density States set forth in 49 U.S.C. 5340 for the period October 1, 2011 through March 31, 2012. After the addition of available FY 2011 contract authority, a total of $233,467,424 is available for apportionment. Fifty percent of this amount is apportioned to eligible States and urbanized areas using the Growing State formula factors. The other 50 percent is apportioned to eligible States and urbanized areas using the High Density States formula factors.

The term “State,” for purposes of this program, is defined to mean only the 50 States. For the Growing State portion of the program, funds are allocated based on the population forecasts for fifteen years after the date of that census. Forecasts are based on the trend between the most recent decennial census and Census Bureau population estimates for the most current year. Census population estimates as of July 1, 2010 were used in the FY 2012 apportionments. Funds allocated to the States are then sub-allocated to urbanized and non-urbanized areas based on forecast population, where available. If forecasted population data at the urbanized level is not available, as is currently the case, funds are allocated to current urbanized and non-urbanized areas on the basis of current population in the 2000 Census. Funds allocated to urbanized areas are included in their Section 5307 apportionment. Funds allocated for non-urbanized areas are included in the states' Section 5311 apportionments.

M. Job Access and Reverse Commute Program (49 U.S.C. 5316)

The Job Access and Reverse Commute (JARC) program provides formula funding to States and Designated Recipients to support the development and maintenance of job access projects designed to transport welfare recipients and low-income individuals to and from jobs and activities related to their employment, and for reverse commute projects designed to transport residents of UZAs and other than urbanized areas to suburban employment opportunities. For more information about the JARC program contact Gil Williams, Office of Transit Programs, at (202) 366-0797.

1. Funding Availability in FY 2012

The Temporary Authorization, 2012 provides $82,250,000 in contract authority for the JARC Program for the period October 1, 2011 through March 31, 2012. The Appropriations Act, 2012 allows for a takedown of one percent of JARC program funds for oversight. After this takedown of one percent for oversight, and the addition of available FY 2011 contract authority and reapportioned funds, a total of 95,047,060 is thus far available for allocation to the States, as shown in the table below.

Job Access and Reverse Commute Program
Total Appropriation | $82,250,000
FY 2011 Contract Authority | 342,239
Oversight Deduction | −822,500
Reapportioned Funds | 13,277,321
Total Apportioned | 95,047,060

Table 17 shows the FY 2012 JARC apportionments.

2. Basis for Formula Apportionment

By law, FTA allocates 60 percent of funds available to UZAs with populations of 200,000 or more persons (large UZAs); 20 percent to the States for urbanized areas with populations ranging from 50,000 to 199,999 persons (small UZAs), and 20 percent to the States for rural and small urban areas with populations of less than 50,000 persons. FTA apportions funds based upon the number of low income individuals residing in a State or large urbanized area, using data from the 2000 Census for individuals with incomes below 150 percent of the poverty level. FTA publishes apportionments to each State for small UZAs and for rural and small urban areas and a single apportionment for each large UZA.

The Designated Recipient, either for the State or for a large UZA, is responsible for further allocating the funds to specific projects and sub-recipients through a competitive selection process. If the Governor has designated more than one recipient of JARC funds in a large UZA, the Designated Recipients may agree to conduct a single competitive selection process or sub-allocate funds to each Designated Recipient, based upon a percentage split agreed upon locally, and conduct separate competitions.

States may transfer funds between the small UZA and the nonurbanized apportionments, if all of the objectives of JARC are met in the size area the funds are taken from. States may also use funds apportioned to the small UZA and nonurbanized area apportionments for projects anywhere in the State (including large UZAs) if the State has established a statewide program for meeting the objectives of JARC. A State that is planning to transfer funds under either of these provisions should submit a request to the FTA regional office. FTA will assign new accounting codes to the funds before obligating them in a grant.

3. Requirements

States and Designated Recipients must solicit grant applications and select projects competitively, based on application procedures and requirements established by the Designated Recipient, consistent with the Federal JARC program objectives. In the case of large UZAs, the area-wide solicitation shall be conducted in cooperation with the appropriate MPO(s).

Funds are available to support the planning, capital, and operating costs of transportation services that are eligible for funding under the program. Assistance may be provided for a variety of transportation services and strategies directed at assisting welfare recipients and eligible low-income individuals to address unmet transportation needs, and to provide reverse commute services. The transportation services may be provided by public, non-profit, or private-for-profit operators. The Federal share is 80 percent of capital and planning expenses and 50 percent of operating expenses. Funds provided under other Federal programs (other than those of the DOT, with the exception of the Federal Lands Highway Program established by 23 U.S.C. 204) may be used for local/State match for funds provided under Section 5316, and revenue from service contracts may be used as local match.

States and Designated Recipients may use up to ten percent of their annual apportionment for administration, planning, and to provide technical assistance. No local share is required for these program administrative funds. Funds used under this program for planning in urbanized areas must be shown in the UPWP for MPO(s) with responsibility for that area.

The Designated Recipient must certify that: The projects selected were derived from a locally developed, coordinated public transit-human services transportation plan; and, the plan was developed through a process that included representatives of public, private, and nonprofit transportation and human services providers and participation by the public, including those representing the needs of welfare recipients and eligible low-income individuals. The locally developed, coordinated public transit-human services transportation planning process must be coordinated and consistent with the metropolitan and statewide planning processes and funding for the program must be included in the metropolitan and statewide Transportation Improvement Program (TIP and STIP) at a level of specificity or aggregation consistent with State and local policies and procedures. Finally, the State must certify that allocations of the grant to sub-recipients are made on a fair and equitable basis.

The coordinated planning requirement is also a requirement in two additional programs. Projects selected for funding under the Elderly and Individuals with Disabilities Program (Section 5310) and the New Freedom program (Section 5317) also are required to be derived from a locally developed coordinated public transit-human service transportation plan. FTA anticipates that most areas will develop one consolidated plan for all the programs, which may include separate elements and other human service transportation programs. The goal of the coordinated planning process is not to be an exhaustive document, but to serve as a tool for planning and implementing beneficial projects. The level of effort required to develop the plan will vary among communities based on factors such as the availability of resources. FTA does not approve coordinated plans.

The JARC program is subject to the relevant requirements of Section 5307, including the requirement for certification of labor protections. JARC program requirements are published in FTA Circular 9050.1, dated April 1, 2007. The circular and other guidance including frequently asked questions are posted on the FTA Web site at www.fta.dot.gov.

4. Period of Availability

Section 5316 JARC funds are available for three years, which includes the year of apportionment, plus two. Fiscal Year 2012 JARC funds not obligated in an FTA grant for eligible purposes by September 30, 2014 will revert to FTA for reapportionment among the States and large UZAs under the JARC program.

5. Other Program or Apportionment Related Information and Highlights

Transfers to Section 5307 or Section 5311: States may transfer JARC funds to Section 5307 or Section 5311, but only for projects competitively selected under the JARC program, not as a general supplement for those programs. FTA anticipates that the States would use this flexibility primarily for projects to be implemented by a Section 5307 recipient in a small urbanized area or for federally recognized Indian Tribes that elect to receive funds as a direct recipient from FTA under Section 5311. FTA has established a scope code (646) to track JARC projects included within a Section 5307 or 5311 grant. All activities within a Section 5307 or Section 5311 grant application that are funded with JARC resources should be listed under the 646-00 scope code. Transfer to Section 5307 or 5311 is permitted but not required. FTA also will award stand-alone JARC grants to the State for any and all sub-recipients. To track disbursements accurately against the appropriate program, FTA will not combine JARC funds with Section 5307 funds in a single Section 5307 grant, nor will FTA combine JARC with New Freedom funds in a single Section 5307 grant.

N. New Freedom Program (49 U.S.C. 5317)

SAFETEA-LU established the New Freedom Program under 49 U.S.C. 5317. The program purpose is to provide new public transportation services and public transportation alternatives beyond those currently required by the Americans with Disabilities Act of 1990 (42 U.S.C. 12101 et seq.) that assist individuals with disabilities with transportation, including transportation to and from jobs and employment support services. For more information about the New Freedom program contact Gil Williams, Office of Transit Programs, at (202) 366-0797.

1. Funding Availability in FY 2012

The Temporary Authorization, 2012 provides $46,250,000 in contract authority for the New Freedom Program for the period October 1, 2011 through March 31, 2012. After the addition of available FY 2011 contract authority and reapportioned funds, a total of 54,405,514 is available for allocation to the States, as shown in the table below.

New Freedom Program
Total Appropriated | $46,250,000
FY 2011 Contract Authority | 192,445
Reapportioned Funds | 7,963,069
Total Apportioned | 54,405,514

Table 18 shows the FY 2012 New Freedom apportionments.

2. Basis for Formula Apportionment

By law, FTA allocates 60 percent of funds available to UZAs with populations of 200,000 or more persons (large UZAs); 20 percent to the States for urbanized areas with populations ranging from 50,000 to 199,999 persons (small UZAs), and 20 percent to the States for rural and small urban areas with populations of less than 50,000 persons. FTA apportions funds based upon the number of persons with disabilities over the age of five residing in a State or large urbanized area, using data from the 2000 Census. FTA publishes apportionments to each State for small UZAs and for rural and small urban areas and a single apportionment for each large UZA.

The Designated Recipient, either for the State or for a large UZA, is responsible for further allocating the funds to specific projects and sub-recipients through a competitive selection process. If the Governor has designated more than one recipient of New Freedom funds in a large UZA, the Designated Recipients may agree to conduct a single competitive selection process or sub-allocate funds to each Designated Recipient, based upon a percentage split agreed on locally and conduct separate competitions.

3. Requirements

States and Designated Recipients must solicit grant applications and select projects competitively, based on application procedures and requirements established by the Designated Recipient, consistent with the Federal New Freedom program objectives. In the case of large UZAs, the area-wide solicitation shall be conducted in cooperation with the appropriate MPO(s).

Funds are available to support the capital and operating costs of new public transportation services and public transportation alternatives that are beyond those required by the Americans with Disabilities Act (ADA). Funds provided under other Federal programs (other than those of the DOT, with the exception of the Federal Lands Highway Program established by 23 U.S.C. 204) may be used as match for capital funds provided under Section 5317, and revenue from contract services may be used as local match.

Funding is available for transportation services provided by public, non-profit, or private-for-profit operators. Assistance may be provided for a variety of transportation services and strategies directed at assisting persons with disabilities to address unmet transportation needs. Eligible public transportation services and public transportation alternatives funded under the New Freedom program must be both new and beyond the ADA. In a notice of policy change published on April 29, 2009, (Federal Register Volume 74 Number 81, April 29, 2009) FTA expanded the type of projects it considers to be “beyond the ADA” and thus increased the types of projects eligible for funding under the New Freedom program. Under interpretation published in the Federal Register, new and expanded fixed route and demand responsive transit service planned for and designed to meet the needs of individuals with disabilities are eligible projects.

The Federal share is 80 percent of capital expenses and 50 percent of operating expenses. Funds provided under other Federal programs (other than those of the DOT) may be used for local/state match for funds provided under Section 5317, and revenue from service contracts may be used as local match.

States and Designated Recipients may use up to ten percent of their annual apportionment to administer, plan, and provide technical assistance for a funded project. No local share is required for these program administrative funds. Funds used under this program for planning must be shown in the UPWP for MPO(s) with responsibility for that area.

The Designated Recipient must certify that: the projects selected were derived from a locally developed, coordinated public transit-human services transportation plan; and, the plan was developed through a process that included representatives of public, private, and nonprofit transportation and human services providers and participation by the public, including those representing the needs of welfare recipients and eligible low-income individuals. The locally developed, coordinated public transit-human services transportation planning process must be coordinated and consistent with the metropolitan and statewide planning processes and funding for the program must be included in the metropolitan and statewide Transportation Improvement Program (TIP and STIP) at a level of specificity or aggregation consistent with State and local policies and procedures. Finally, the State must certify that allocations of the grant to sub-recipients are made on a fair and equitable basis.

The coordinated planning requirement is also a requirement in two additional programs. Projects selected for funding under the Section 5310 program and the JARC program are also required to be derived from a locally developed coordinated public transit-human service transportation plan. FTA anticipates that most areas will develop one consolidated plan for all the programs, which may include separate elements and other human service transportation programs.

The New Freedom program is subject to the relevant requirements of Section 5307, but certification of labor protections is not required. New Freedom Program requirements are published in FTA Circular 9045.1, which was effective May 1, 2007. The circular and other guidance including frequently asked questions are posted on the FTA Web site at www.fta.dot.gov.

4. Period of Availability

Section 5317 New Freedom funds are available for three years, which includes the year of apportionment, plus two. Fiscal Year 2012 New Freedom funds not obligated in an FTA grant for eligible purposes by September 30, 2014 will revert to FTA for reapportionment among the States and large UZAs to be used for New Freedom program purposes.

5. Other Program or Apportionment Related Information and Highlights

Transfers to Section 5307 or 5311: States may transfer New Freedom funds to Section 5307 or Section 5311, but only for projects competitively selected under the New Freedom program, not as a general supplement for those programs. FTA anticipates that the States would use this flexibility for projects to be implemented by a Section 5307 recipient in a small urbanized area or for federally recognized Indian Tribes that elect to receive funds as a direct recipient from FTA under Section 5311. FTA has established a scope code (647) to track New Freedom projects included within a Section 5307 or 5311 grant. All activities within a Section 5307 or Section 5311 grant application that are funded with New Freedom resources should be listed under the 647-00 scope code. Transfer to Section 5307 or 5311 is permitted but not required. FTA also will award stand-alone New Freedom Program grants to the State for any and all sub-recipients. In order to track disbursements accurately against the appropriate program, FTA will not combine New Freedom funds with Section 5307 funds in a single Section 5307 grant, nor will FTA combine New Freedom with JARC funds in a single Section 5307 grant.

O. Paul S. Sarbanes Transit in Parks Program (49 U.S.C. 5320)

The Paul S. Sarbanes Transit in Parks Program (Transit in Parks), formally the Alternative Transportation in Parks and Public Lands (ATPPL) Program, is administered by FTA in partnership with the Department of the Interior (DOI) and the U.S. Department of Agriculture's Forest Service. The purpose of the program is to enhance the protection of national parks and Federal lands, and increase the enjoyment of those visiting them. The Program funds capital and planning expenses for alternative transportation systems such as buses, trams, ferries and bicycle or pedestrian facilities in federally-managed parks and public lands. Federal land management agencies and State, tribal and local governments acting with the consent of a Federal land management agency are eligible to apply.

1. FY 2012 Funding Availability

The Temporary Authorization, 2012 provides $13,450,000 in contract authority to the Paul S. Sarbanes Transit in Parks Program for the period October 1, 2011 through March 31, 2012. After the addition of available FY 2011 contract authority and the deduction for oversight, a total of $13,438,435 is available for grants, as shown in the table below. Up to ten percent of the funds may be reserved for planning, research, and technical assistance.

Paul S. Sarbanes Transit in Parks Program
Total Appropriated | $13,450,000
FY 2011 Contract Authority | 55,965
Oversight Deduction | 67,530
Total Apportioned | 13,438,435

As stated in the FY 2011 Notice of Funding Availability, FY 2012 funds may be used to fund project applications received in response to the 2011 program competition. An announcement of project selections using both FY 2011 and FY 2012 funds will be published in or around January 2012. Depending upon the availability of additional full-year funding, FTA may publish a separate notice of Funding Availability (NOFA) in the Federal Register inviting additional applications for funding in FY 2012. For information on the FY 2011 program competition and award announcements, please visit www.fta.dot.gov/transitinparks.

2. Program Requirements

Projects are competitively selected based on criteria specified in the Notice of Funding Availability. The terms and conditions applicable to the program are also specified in the NOFA. Projects must conserve natural, historical, and cultural resources, reduce congestion and pollution, and improve visitor mobility and accessibility. By statute, no more than 25 percent of the amount provided may be allocated for any one project. Projects funded under the Transit in Parks Program are not required to have local match.

3. Period of Availability

Funds awarded under the Transit in Parks Program remain available until expended. Consistent with section 9.5.2a of the “Department of Transportation Financial Management Policies Manual (October 24, 2006), funds awarded to Federal land management agencies through interagency agreements remain available for a period of five years from execution of the agreement.

P. Alternatives Analysis Program (49 U.S.C. 5339)

The Alternatives Analysis Program provides grants to States, authorities of the States, metropolitan planning organizations, and local government authorities to develop studies as part of the transportation planning process. These studies include: an assessment of a wide range of public transportation alternatives designed to address transportation needs in a defined corridor or subarea; an initiation of the environmental review process by performing the planning-level consideration of environmental issues; sufficient information to enable the Secretary to make the findings of project justification and local financial commitment required under the Major Capital Investment Program (New Starts and Small Starts); the selection of a locally preferred alternative; and the adoption of the locally preferred alternative as part of the Long Range Statewide Transportation Plan or Metropolitan Transportation Plan. For more information about this program contact Kenneth Cervenka, Office of Planning and Environment, at (202) 493-0512, or for information about published allocations contact Eric Hu, Office of Transit Programs, at (202) 366-0870.

1. FY 2012 Funding Availability

The Temporary Authorization, 2012 provides $12,500,000 in contract authority to the Alternatives Analysis Program for the period October 1, 2011 through March 31, 2012. After the addition of available FY 2011 contract authority, a total of $12,552,012 is currently available for grants, as shown in the table below.

Alternatives Analysis Program
Total Appropriated | $12,500,000
FY 2011 Contract Authority | 52,012
Total Apportioned | 12,552,012

2. Requirements

The Government's share of the cost of an activity funded may not exceed 80 percent of the cost of the activity. The funds will be awarded as separate Section 5339 grants. The grant requirements will be comparable to those for Section 5309 grants. Eligible projects include planning and corridor studies, which lay the foundation for the adoption of locally preferred alternatives within the fiscally constrained Metropolitan Transportation Plan for that area, and early scoping of the environmental review process, which supports the incorporation of the planning studies' results into subsequent NEPA documents. Funds awarded under the Alternatives Analysis Program must be shown in the UPWP for MPO(s) with responsibility for that area. Pre-award authority for Section 5339 funds applies to projects only after FTA funding allocations for a particular fiscal year are published in an FTA notice of apportionments and allocations. For more information on pre-award authority see Section V of this notice.

Unless otherwise specified in law, grants made under the Alternatives Analysis program must meet all other eligibility requirements as outlined in Section 5309.

3. Period of Availability

Section 5338 Alternatives Analysis funds are available for three years, which includes the year the funds are allocated to a project through a notice of award or the year of appropriation, plus two.

4. Other Program or Apportionment Related Information and Highlights

Table 19 lists prior year carryover of $15,031,000 for Alternatives Analysis projects allocated project funding in FY 2010. Funding for these projects not obligated in an FTA grant by September 30, 2012 may be made available for other Alternatives Analysis projects during the next fiscal year. For more information about the FY 2011 Alternatives Analysis award announcements, please visit www.gpo.gov/fdsys/pkg/FR-2011-11-07/pdf/2011-28779.pdf. (Federal Register Citation: 76 FR 68813—FY 2011 Discretionary Livability Funding Opportunity; Section 5309 Bus and Bus Facilities Livability Initiative Program Grants and Section 5339 Alternatives Analysis Program, November 7, 2011).

Q. Over-the-Road Bus Accessibility Program (Section 3038, Pub. L. 105-85 [49 U.S.C. 5310 Note])

The Over-the-Road Bus Accessibility (OTRB) Program authorizes FTA to make grants to operators of over-the-road buses to help finance the incremental capital and training costs of complying with the DOT over-the-road bus accessibility final rule, 49 CFR Part 37, published on September 28, 1998 (63 FR 51670). FTA conducts a national solicitation of applications, and grantees are selected on a competitive basis. For more information about the OTRB program contact Blenda Younger, Office of Transit Programs, at (202) 366-4345.

1. Funding Availability in FY 2012

The Temporary Authorization, 2012 provides $4,400,000 in contract authority to the Over-the-Road Bus Accessibility Program for the period October 1, 2011 through March 31, 2012. After the addition of available FY 2011 contract authority, a total of $4,418,308 is thus far available for grants, as shown in the table below.

Over-the-Road Bus Accessibility Program
Total Appropriated | $4,400,000
FY 2011 Contract Authority | 18,308
Total Apportioned | 4,418,308

Of this amount, $3,313,731 is allocable to providers of intercity fixed-route service, and $1,104,577 to other providers of over-the-road bus services, including local fixed-route service, commuter service, and charter and tour service.

2. Program Requirements

Projects are competitively selected. The Federal share of the project is 90 percent of net project cost. Program guidance is provided in the Federal Register notice soliciting applications. Assistance under the program is available to private operators of over-the-road buses that are used substantially or exclusively in intercity, fixed route and over-the-road bus service. Assistance is also available to private operators of over-the-road buses in other services, such as charter, tour, and commuter service. Capital projects eligible for funding include projects to add lifts and other accessibility components to new vehicle purchases and to purchase lifts to retrofit existing vehicles. Eligible training costs include developing training materials or providing training for local providers of over-the-road bus services. A comprehensive listing of program requirements is published annually in the OTRB Program Notice of Funding Availability (NOFA).

3. Period of Availability

FTA has observed that some private operators selected to receive funding under this program have not acted promptly to obligate the funds in a grant and request reimbursement for expenditures. While the program does not have a statutory period of availability, in the FY 2008 Apportionment Notice, FTA published its intention to limit the period of availability to a selected operator to three years, which includes the year of allocation plus two additional years. Over the Road Bus funds allocated to projects in March 2011 must be obligated in an FTA grant by September 30, 2013. (Federal Register Citation: 76 FR 17738—Over-the-Road Bus Accessibility Program Announcement of Project Selections, March 30, 2011; http://www.gpo.gov/fdsys/pkg/FR-2011-03-30/pdf/2011-7409.pdf)

4. Other Program or Apportionment Related Information and Highlights

FTA will publish a notice of award for the FY 2011 program competition and a NOFA soliciting 2012 applications in early calendar year 2012. The notice will be available at http://www.fta.dot.gov/legislation_law/Federal_register_notices.php. For more information about the Over the Road Bus Program, visit www.fta.dot.gov/otrb.

R. Research Programs (49 U.S.C. 5312, 5313, 5314, 5322 and 5506)

FTA's Research Programs (NRPs) include the National Research and Technology Program (NRTP), the Transit Cooperative Research Program (TCRP), the National Transit Institute (NTI), and the University Transportation Centers Program (UTC). Funds for FTA Human Resource Programs are also provided under the Research appropriations account heading.

Through funding under these programs, FTA seeks to deliver solutions that improve public transportation. For more information contact Linda Wolfe, Office of Research, Demonstration and Innovation, at (202) 366-8511.

1. Funding Availability in FY 2012

The Appropriations Act, 2012 appropriated $44,000,000 under the Research and University Research Centers account heading for FY 2012. Of this amount, Congress specified that $6,500,000 is allocated for TCRP, $3,500,000 for NTI, $4,000,000 for the UTC. As requested in the conference report accompanying the Appropriations Act, 2012, FTA intends to direct $25,000,000 to fund the research, development, demonstration and deployment of new and cutting edge bus and transit technologies authorized under section 5312 of chapter 53. The remaining $5,000,000 is available to fund eligible projects under section 5306, 5312-15, 5322, and 5506. All research and research and development projects, as defined by the Office of Management and Budget, are subject to a 2.6% reduction for the Small Business Innovative Research Program (SBIR).

2. Program Requirements

Program Requirements are defined in FTA Circular 6100.1D Research, Technical Assistance, and Training Programs: Application Instructions and Program Management Guidelines published on May 1, 2011 and available at www.fta.dot.gov. Projects must support FTA's Strategic Goals and meet the Office of Management and Budget's Research and Development Investment Criteria. All recipients are required to work with FTA to develop approved Statements of Work and plans to evaluate results before award.

Eligible activities under the National Research Program include research, development, demonstration and deployment projects as described in 49 U.S.C. 5312(a); Joint Partnership projects for deployment of innovation as described in 49 U.S.C. 5312(b); International Mass Transportation Projects as described in 49 U.S.C. 5312(c); Unless otherwise specified in law, all projects must meet one of these eligibility requirements.

Problem Statements for TCRP can be submitted on TCRP's Web site: http://www.tcrponline.org. Information about NTI courses can be found at http://www.ntionline.com. UTC funds are transferred to the Research and Innovative Technology Administration to make awards.

3. Period of Availability

Funds are available until expended.

4. Other Program or Apportionment Related Information and Highlights

Funds not designated by Congress for specific projects and activities will be programmed by FTA based on national priorities. Opportunities are posted in www.grants.gov under Catalogue of Federal Domestic Assistance Number 20.514.

S. Washington Metropolitan Area Transit Authority Grants

The Appropriations Act, 2012 appropriated $150,000,000 in funding this fiscal year for grants to the Washington Metropolitan Transit Authority, WMATA. Such funding is authorized under section 601 of the Passenger Rail Investment and Improvement Act of 2008. See Public Law 110-432, Division B, Title VI. Grants may be provided for capital and preventive maintenance expenditures for WMATA after it has been determined that WMATA has placed the highest priority on investments that will improve the safety of the system, including but not limited to fixing the track signal system, replacing 1000 series cars, installing guarded turnouts, buying equipment for wayside worker protection, and installing rollback protection on cars that are not equipped with the safety feature. FTA will communicate further program requirements directly to WMATA.

V. FTA Policy and Procedures for FY 2012 Grants

A. Automatic Pre-Award Authority To Incur Project Costs

1. Caution to New Grantees and Grantees Using Innovative Financing

While we provide pre-award authority to incur expenses before grant award for many projects, we recommend that first-time grant recipients NOT utilize this automatic pre-award authority and wait until the grant is actually awarded by FTA before incurring costs. As a new grantee, it is easy to misunderstand pre-award authority conditions and be unaware of all of the applicable FTA requirements that must be met in order to be reimbursed for project expenditures incurred in advance of grant award. FTA programs have specific statutory requirements that are often different from those for other Federal grant programs with which new grantees may be familiar. If funds are expended for an ineligible project or activity, or for an eligible activity but at an inappropriate time (e.g., prior to NEPA completion), FTA will be unable to reimburse the project sponsor and, in certain cases, the entire project may be rendered ineligible for FTA assistance.

Grantees proposing to use innovative financing techniques or capital leasing are required to consult with the applicable FTA Regional Office (see Appendix A) before entering into the financial agreement—especially when the grantee expects to use Federal funds for debt service or capital lease payments. Consulting with FTA before entering into the agreement allows FTA to advise the project sponsor of any applicable Federal regulations, such as the Capital Leasing Regulation, and will minimize the risk of the costs being ineligible for reimbursement at a later date.

2. Policy

FTA provides pre-award authority to incur expenses before grant award for certain program areas described below. This pre-award authority allows grantees to incur certain project costs before grant approval and retain the eligibility of those costs for subsequent reimbursement after grant approval. The grantee assumes all risk and is responsible for ensuring that all conditions are met to retain eligibility. This pre-award spending authority permits an eligible grantee to incur costs on an eligible transit capital, operating, planning, or administrative project without prejudice to possible future Federal participation in the cost of the project. In the Federal Register Notice of November 30, 2006, FTA extended pre-award authority for capital assistance under all formula programs through FY 2009, the duration of SAFETEA-LU. Since that time, FTA has extended the same pre-award authority through FY 2011. In this notice, FTA extends pre-award authority through FY 2012 for capital assistance under all formula programs. FTA provides pre-award authority for planning and operating assistance under the formula programs without regard to the period of the authorization. In addition, we extend pre-award authority for certain discretionary programs based on the annual Appropriations Act each year. All pre-award authority is subject to conditions and triggers stated below:

i. FTA does not impose additional conditions on pre-award authority for operating, planning, or administrative assistance under the formula grant programs. Grantees may be reimbursed for expenses incurred before grant award so long as funds have been expended in accordance with all Federal requirements and the grantee is otherwise eligible to receive the funding. In addition to cross-cutting Federal grant requirements, program specific requirements must be met. For example, a planning project must have been included in a Unified Planning Work Program (UPWP); a New Freedom operating assistance project or a JARC planning or operating project must have been derived from a coordinated public transit-human services transportation plan (coordinated plan) and competitively selected by the Designated recipient before incurring expenses; expenditure on State Administration expenses under State Administered programs must be consistent with the State Management Plan (as defined in FTA Circular 9040.1F, Section 6). Designated Recipients for JARC and New Freedom have pre-award authority for the ten percent of the apportionment they may use for program administration, if the use is consistent with their Program Management Plan.

ii. Pre-Award authority for Alternatives Analysis planning projects under 49 U.S.C. 5339 is triggered by the publication of the allocation in FTA's Federal Register Notice of Apportionments and Allocations following the annual Appropriations Act, or announcement of additional discretionary allocations. The projects must be included in the UPWP of the MPO for that metropolitan area.

iii. Pre-award authority for design and environmental work on a capital project is triggered by the authorization of formula funds, the appropriation of funds for a earmarked project, or the announcement of competitively selected projects.

iv. Following authorization of formula funds or appropriation and publication of earmarked projects or the announcement of competitively selected projects, pre-award authority for capital project implementation activities, such as property acquisition, demolition, construction, and acquisition of vehicles, equipment, or construction materials, may be exercised only after FTA concurs that all applicable environmental requirements have been satisfied, including those for actions classified as normally requiring preparation of environmental impact statements, environmental assessments, and categorical exclusions found in 23 CFR 771.117. Other conditions and requirements set forth in paragraph 3, below, must also be satisfied. Before exercising pre-award authority, grantees must comply with the conditions and Federal requirements outlined in paragraph 3 below. Failure to do so will render an otherwise eligible project ineligible for FTA financial assistance. Capital projects under the Section 5310, JARC, and New Freedom programs must comply with specific program requirements, including coordinated planning and competitive selection. In addition, before incurring costs, grantees are strongly encouraged to consult with the appropriate FTA regional office regarding the eligibility of the project for future FTA funds and the applicability of the conditions and Federal requirements.

v. As a general rule, pre-award authority applies to the Section 5309 Capital Investment Bus and Bus-Related Facilities, the Clean Fuels Bus program, high priority project designations, and any other transit discretionary projects only AFTER funds have been appropriated or allocated to the project (e.g., published in a Federal Register Notice of Award). For Section 5309 Capital Investment Bus and Bus-Related Facilities, Clean Fuels Program, or other transit capital discretionary projects, the date that costs may be incurred is: (1) For design and environmental review, the appropriations act which directs funds to the project was enacted or the announcement of the discretionary allocation of funds for the project; and (2) for property acquisition, demolition, construction, and acquisition of vehicles, equipment, or construction materials, the date that FTA approves the document (Record of Decision (ROD), Finding of No Significant Impact (FONSI), or Categorical Exclusion (CE) determination) that completes the environmental review process required by the National Environmental Policy Act (NEPA) and its implementing regulations. FTA introduced this new trigger for pre-award authority in FY 2006 in recognition of the growing prevalence of new grantees unfamiliar with Federal and FTA requirements to ensure FTA's continued ability to comply with NEPA and related environmental laws. Because FTA does not sign a final NEPA document until MPO and statewide planning requirements (including air quality conformity requirements, if applicable) have been satisfied, this new trigger for pre-award will ensure compliance with both planning and environmental requirements before irreversible action by the grantee.

vi. The pre-award authority described above does not apply to Section 5309 Capital Investment Program (New and Small Starts) funds. Specific instances of pre-award authority for Capital Investment Program projects are described in paragraph 4 below. Before an applicant may incur costs for Capital Investment New and Small Starts projects, Bus and Bus-Related Facilities projects, or any other projects not yet published in a notice of apportionments and allocations, it must first obtain a written Letter of No Prejudice (LONP) from FTA. To obtain an LONP, a grantee must submit a written request accompanied by adequate information and justification to the appropriate FTA regional office, as described below.

vii. Pre-award authority does not apply to Section 5314 National Research Programs. Before an applicant may incur costs for National Research Programs, it must first obtain a written Letter of No Prejudice (LONP) from FTA. To obtain an LONP, a grantee must submit a written request accompanied by adequate information and justification to the appropriate FTA headquarters office. Information about LONP procedures may be obtained from the appropriate headquarters office.

3. Conditions

The conditions under which pre-award authority may be utilized are specified below:

i. Pre-award authority is not a legal or implied commitment that the subject project will be approved for FTA assistance or that FTA will obligate Federal funds. Furthermore, it is not a legal or implied commitment that all items undertaken by the applicant will be eligible for inclusion in the project.

ii. All FTA statutory, procedural, and contractual requirements must be met.

iii. No action will be taken by the grantee that prejudices the legal and administrative findings that the Federal Transit Administrator must make in order to approve a project.

iv. Local funds expended by the grantee pursuant to and after the date of the pre-award authority will be eligible for credit toward local match or reimbursement if FTA later makes a grant or grant amendment for the project. Local funds expended by the grantee before the date of the pre-award authority will not be eligible for credit toward local match or reimbursement. Furthermore, the expenditure of local funds or undertaking of project implementation activities such as land acquisition, demolition, or construction before the date of pre-award authority for those activities (i.e., the completion of the NEPA process) would compromise FTA's ability to comply with Federal environmental laws and may render the project ineligible for FTA funding.

v. The Federal amount of any future FTA assistance awarded to the grantee for the project will be determined on the basis of the overall scope of activities and the prevailing statutory provisions with respect to the Federal/local match ratio at the time the funds are obligated.

vi. For funds to which the pre-award authority applies, the authority expires with the lapsing of the fiscal year funds.

vii. When a grant for the project is subsequently awarded, the Financial Status Report, in TEAM-Web, must indicate the use of pre-award authority.

viii. Planning, Environmental, and Other Federal requirements.

All Federal grant requirements must be met at the appropriate time for the project to remain eligible for Federal funding. The growth of the Federal transit program has resulted in a growing number of inexperienced grantees who make compliance with Federal planning and environmental laws increasingly challenging. FTA has therefore modified its approach to pre-award authority to use the completion of the NEPA process, which has as a prerequisite the completion of planning and air quality requirements, as the trigger for pre-award authority for all activities except design and environmental review.

The requirement that a project be included in a locally-adopted Metropolitan Transportation Plan, the metropolitan transportation improvement program and federally-approved statewide transportation improvement program (23 CFR Part 450) must be satisfied before the grantee may advance the project beyond planning and preliminary design with non-Federal funds under pre-award authority. If the project is located within an EPA-designated non-attainment or maintenance area for air quality, the conformity requirements of the Clean Air Act, 40 CFR Part 93, must also be met before the project may be advanced into implementation-related activities under pre-award authority. Compliance with NEPA and other environmental laws and executive orders (e.g., protection of parklands, wetlands, historic properties, and assurance of tribal consultation) must be completed before State or local funds are spent on implementation activities, such as site preparation, construction, and acquisition, for a project that is expected to be subsequently funded with FTA funds. The grantee may not advance the project beyond planning and preliminary design/engineering before FTA has determined the project to be a Categorical Exclusion (CE), or has issued a Finding of No Significant Impact (FONSI) or a Record of Decision (ROD), in accordance with FTA environmental regulations, 23 CFR Part 771. For a planning project to have pre-award authority, the planning project must be included in a MPO-approved Unified Planning Work Program (UPWP) that has been coordinated with the State.

ix. In addition, Federal procurement procedures, as well as the whole range of applicable Federal requirements (e.g., Buy America, Davis-Bacon Act, Disadvantaged Business Enterprise) must be followed for projects in which Federal funding will be sought in the future. Failure to follow any such requirements could make the project ineligible for Federal funding. In short, this increased administrative flexibility requires a grantee to make certain that no Federal requirements are circumvented through the use of pre-award authority.

x. If a grantee has questions or concerns regarding the environmental requirements, or any other Federal requirements that must be met before incurring costs, it should contact the appropriate regional office.

4. Pre-Award Authority for the Major Capital Investment Program (New and Small Starts Projects)

i. Preliminary Engineering (PE), Final Design (FD), and Project Development (PD). Projects proposed for Section 5309 capital investment program funds (New and Small Starts) are required to follow a federally defined project development process. For New Starts projects, this process includes, among other things, FTA approval of the entry of the project into PE and later into FD. For Small Starts projects, this process includes, among other things, approval of the entry of the project into PD. In accordance with Sections 5309(d) and (e), FTA considers the merits of the project, the strength of its financial plan, and its readiness to enter the next phase in deciding whether or not to approve entry into PE, FD, or PD. For New Starts projects, upon FTA approval to enter PE, FTA extends pre-award authority to incur costs for PE activities. Upon completion of NEPA for a New Starts project, FTA extends pre-award authority to incur costs for utility relocation, real property acquisition and associated relocations, and vehicle purchases, which activities are further addressed below. Upon FTA approval to enter FD, FTA extends pre-award authority to incur costs for FD activities, demolition, and non-construction activities such as procurement of long-lead time items or items for which market conditions play a significant role in the acquisition price. This includes, but is not limited to procurement of rails, ties, and other specialized equipment, and commodities. Please contact the FTA Regional Office for a determination of activities not listed here, but which meet the intent described above. For Small Starts projects, upon FTA approval to enter PD, FTA extends pre-award authority to incur costs for the design and engineering activities necessary to complete the NEPA process. Upon completion of NEPA for a Small Starts project, FTA extends pre-award authority to incur costs for utility relocation, real property acquisition and associated relocations, and vehicle purchases, which activities are further addressed below. Because Small Starts projects are not subject to approval into FD, they are not granted pre-award authority for procurement of rails, ties, and other specialized equipment; the procurement of commodities; and demolition. The pre-award authority for each phase is automatic upon FTA's signing of a letter to the project sponsor approving entry into that phase.

ii. Real Property Acquisition Activities and Vehicle Purchases. FTA extends automatic pre-award authority for the acquisition of real property, real property rights and acquisition of vehicles for a major capital investment program (New or Small Starts) project upon completion of the NEPA process for that project. The NEPA process is completed when FTA signs an environmental Record of Decision (ROD) or Finding of No Significant Impact (FONSI), or makes a Categorical Exclusion (CE) determination. With the limitations and caveats described below, real estate acquisition and vehicle purchases for a New or Small Starts project may commence, at the project sponsor's risk, upon completion of the NEPA process.

For FTA-assisted projects, any acquisition of real property or real property rights must be conducted in accordance with the requirements of the Uniform Relocation Assistance and Real Property Acquisition Policies Act (URA) and its implementing regulations, 49 CFR Part 24. This pre-award authority is strictly limited to costs incurred: (i) To acquire real property and real property rights in accordance with the URA regulation, and (ii) to provide relocation assistance in accordance with the URA regulation. This pre-award authority is limited to the acquisition of real property and real property rights that are explicitly identified in the final environmental impact statement (FEIS), environmental assessment (EA), or CE document, as needed for the selected alternative that is the subject of the FTA-signed ROD or FONSI, or CE determination. This pre-award authority regarding property acquisition that is granted at the completion of NEPA does not cover site preparation, demolition, or any other activity that is not strictly necessary to comply with the URA, with one exception. That exception is when a building that has been acquired, has been emptied of its occupants, and awaits demolition poses a potential fire-safety hazard or other hazard to the community in which it is located, or is susceptible to reoccupation by vagrants. Demolition of the building is also covered by this pre-award authority upon FTA's written agreement that the adverse condition exists.

Pre-award authority for property acquisition is also provided when FTA makes a CE determination for a protective buy or hardship acquisition in accordance with 23 CFR 771.117(d)(12), and when FTA makes a CE determination for the acquisition of a pre-existing railroad right-of-way in accordance with 49 U.S.C. 5324(c). When a tiered environmental review in accordance with 23 CFR 771.111(g) is being used, pre-award authority is NOT provided upon completion of the first-tier environmental document except when the Tier-1 ROD or FONSI signed by FTA explicitly provides such pre-award authority for a particular identified acquisition.

Project sponsors should use pre-award authority for real property acquisition relocation assistance, and vehicle purchases very carefully, with a clear understanding that it does not constitute a funding commitment by FTA. FTA provides pre-award authority upon completion of the NEPA process for real property acquisition and relocation assistance to maximize the time available to project sponsors to move people out of their homes and places of business, in accordance with the requirements of the Uniform Relocation Act, but also with maximum sensitivity to the plight of the people so affected. FTA provides pre-award authority upon the completion of the NEPA process for vehicles purchases in recognition of the long-lead time and complexity of this activity as well as its relationship to the “critical path” project schedule. FTA cautions grantees that do not currently operate the type of vehicle proposed in the New or Small Starts project about exercising this pre-award authority and encourages these sponsors to wait until later in the project development process when project plans are more fully developed and Federal support for the project is more certain. FTA reminds project sponsors that the procurement of vehicles must comply with all Federal requirements including, but not limited to, competitive procurement practices, the Americans with Disabilities Act, and Buy America. FTA encourages project sponsors to discuss the procurement of vehicles with FTA in regards to Federal requirements before exercising pre-award authority.

Although FTA provides pre-award authority for property acquisition and vehicle purchases upon completion of the NEPA process, FTA will not make a grant to reimburse the sponsor for real estate activities conducted under pre-award authority until the New Starts project has been approved into FD or the Small Starts project has received its construction grant. FTA will only reimburse the sponsor for vehicle purchases through an executed Full Funding Grant Agreement (New Starts) or a Project Construction Grant Agreement or single year capital grant (Small Starts). This is to ensure that Federal funds are not risked on a project whose advancement into 0construction is still not yet assured.

iii. National Environmental Policy Act (NEPA) Activities. NEPA requires that major projects proposed for FTA funding assistance be subjected to a public and interagency review of the need for the project, its environmental and community impacts, and alternatives to avoid and reduce adverse impacts. Projects of more limited scope also need a level of environmental review, either to support an FTA finding of no significant impact (FONSI) or to demonstrate that the action is categorically excluded (i.e., CE) from the more rigorous level of NEPA review.

FTA's regulation titled “Environmental Impact and Related Procedures,” at 23 CFR Part 771 states that the costs incurred by a grant applicant for the preparation of environmental documents requested by FTA are eligible for FTA financial assistance (23 CFR 771.105(e)). Accordingly, FTA extends pre-award authority for costs incurred to comply with NEPA regulations and to conduct NEPA-related activities, effective as of the date of the Federal approval of the relevant STIP or STIP amendment that includes the project or any phase of the project, or that includes a project grouping under 23 CFR 450.216(j) that includes the project. The grant applicant must notify the FTA regional office upon initiation of the Federal environmental review process in accordance with the “Dear Colleague” letter from the FTA Administrator dated February 24, 2011. NEPA-related activities include, but are not limited to, public involvement activities, historic preservation reviews, section 4(f) evaluations, wetlands evaluations, endangered species consultations, and biological assessments. This pre-award authority is strictly limited to costs incurred to conduct the NEPA process, and to prepare environmental, historic preservation and related documents. When any transit project (including New Starts and Small Starts) is adopted into the STIP or STIP amendment and pre-award authority is granted, reimbursement for NEPA activities may be sought at any time through Section 5339 (Alternatives Analysis program), Section 5307 (Urbanized Area Formula Program), or the flexible highway programs (STP and CMAQ).

FTA assistance for environmental documents for New Starts and Small Starts projects is subject to certain additional restrictions. Under SAFETEA-LU, Section 5309 capital investment program funds (New and Small Starts) cannot be used to reimburse any activity, including a NEPA-related activity that occurs before the approval of a New Starts project into PE or a Small Starts project into PD. Only when a project has PE approval (for New Starts) or PD approval (for Small Starts) may the grant applicant seek reimbursement of Section 5309 major capital improvement program funds for NEPA work conducted after the PE or PD approval. Prior to PE or PD approval, any NEPA related work for a New Starts or Small Starts project can only be reimbursed through the use of Section 5339 (Alternatives Analysis Program), Section 5307 (Urbanized Area Formula Program) and the flexible highway programs. NEPA-related activities include, but are not limited to, public involvement activities, historic preservation reviews, section 4(f) evaluations, wetlands evaluations, endangered species consultations, tribal consultation, and biological assessments. NEPA-related activities do not include PE activities beyond those necessary for NEPA compliance. As with any pre-award authority, FTA reimbursement for costs incurred is not guaranteed.

iv. Other New and Small Starts Project Activities Requiring Letter of No Prejudice (LONP). Except as discussed in paragraphs a through c above, a project sponsor must obtain a written LONP from FTA before incurring costs for any activity expected to be funded by major capital investment program funds not yet awarded. To obtain an LONP, an applicant must submit a written request accompanied by adequate information and justification to the appropriate FTA regional office, as described in B below.

B. Letter of No Prejudice (LONP) Policy

1. Policy

LONP authority allows an applicant to incur costs on a project utilizing non-Federal resources, with the understanding that the costs incurred subsequent to the issuance of the LONP may be reimbursable as eligible expenses or eligible for credit toward the local match should FTA approve the project at a later date. LONPs are applicable to projects and project activities not covered by automatic pre-award authority. The majority of LONPs will be for Section 5309 capital investment program (New Starts or Small Starts) projects undertaking activities not covered under automatic pre-award authority, or for Section 5309 Bus and Bus-Related projects authorized but not yet appropriated funds by Congress. LONPs may be issued for formula and discretionary funds beyond the life of the current authorization or FTA's extension of automatic pre-award authority; however, the LONP is limited to a five-year period, unless otherwise authorized.

2. Conditions and Federal Requirements

The conditions for pre-award authority specified in section IV.A.2 above apply to all LONPs. The Planning, Environmental and Other Federal Requirements described in section IV.A.3 also apply to all LONPs. Because project implementation activities may not be initiated before NEPA completion, FTA will not issue an LONP for such activities until the NEPA process has been completed with a ROD, FONSI, or CE determination.

3. Request for LONP

Before incurring costs for project activities not covered by automatic pre-award authority, the project sponsor must first submit a written request for an LONP, accompanied by adequate information and justification, to the appropriate regional office and obtain written approval from FTA. FTA approval of an LONP for a New Starts or Small Starts project is determined on a case-by-case basis. Federal funding under the major capital investment program for a New or Small Starts project is not implied or guaranteed by an LONP. Specifically, when requesting an LONP, the applicant shall provide sufficient information to allow FTA to consider the following items:

i. Description of the activities to be covered by the LONP.

ii. Justification for advancing the identified activities. The justification should include an accurate assessment of the consequences to the project scope, schedule, and budget should the LONP not be approved.

iii. Allocated level of risk and contingency for the activity requested.

iv. Status of procurement progress, including, if appropriate, submittal of bids and expiration of those bids for the activities covered by the LONP.

v. Strength of the capital and operating financial plan for the New or Small Starts project and the future transit system.

vi. Adequacy of the Project Management Plan.

vii. Resolution of any readiness issues that would affect the project, such as land acquisition, status of third party agreements, and technical capacity to carry out the project.

FTA will, following the completion of the requirements under NEPA, expedite the issuance of LONPs for New and Small Starts projects, when appropriate, by no longer performing a detailed review of the cost and scope of the request in every instance. Rather, a limited review will be performed in those cases that are of a more routine nature, especially those involving an experienced sponsor.

C. FTA FY 2012 Annual List of Certifications and Assurances

The full text of the FY 2012 Certifications and Assurances was published in the Federal Register on November 1, 2011, and is available on the FTA Web site and in TEAM-Web. The FY 2012 Certifications and Assurances must be used for all grants made in FY 2012, including obligation of carryover funds. All grantees with active grants are required to have signed the FY 2012 Certifications and Assurances within 90 days after publication. Any questions regarding this document may be addressed to the appropriate Regional Office or to FTA's Office of Administration at (202) 366-4022.

D. FHWA Funds Used for Transit Purposes

SAFETEA-LU continues provisions in the Intermodal Surface Transportation Efficiency Act of 1991 (ISTEA) and TEA-21 that expanded modal choice options in transportation funding by including substantial flexibility to transfer funds between FTA and FHWA formula program funding categories. The provisions also allow for transfer of certain discretionary program funds for administration of highway projects by FHWA and transit projects by FTA. FTA and FHWA execute Flex Funding Transfers between the Formula and Bus Grants Transit programs and the Federal Aid Highway programs. These transfers are based on a State's requests to transfer funding from the Highway and/or Transit programs to fund States and local project priorities, and joint planning needs. This practice can result in transfers to the Federal Transit Program from the Federal Aid Highway Program or vice versa.

1. Transfer Process for Funds

SAFETEA-LU was signed into law on August 10, 2005. With the enactment of SAFETEA-LU, beginning in FY2006, with few exceptions, Federal transit programs were funded solely from general funds or trust funds. The transit formula and bus grant programs are now funded from Mass Transit Account of the Highway Trust Fund. The Formula and Bus Grant Programs can also receive flex funding transfers from the Federal Aid Highway Program.

As a result of the changes to program funding mechanisms, there is no longer a requirement to transfer budget authority and liquidating cash resources simultaneously upon the execution of a flex funding transfer request by a State. Since the transfers are between trust fund accounts, the only requirement is to transfer budget authority (obligation limitation) between the Federal Aid Program trust fund account and the Federal Transit Formula and Bus Grant Program account. At the point in time that the obligation resulting from the transfer of budgetary authority is expended, a transfer of liquidating cash will be required.

Beginning in FY 2007, the accounting process was changed for transfers of flex funds and other specific programs to allow budget authority and the liquidating cash to be transferred separately. FTA requires that flex fund transfers to FTA be in separate and identifiable grants in order to ensure that the draw-down of flexed funds can be tracked, thus securing the internal controls for monitoring these resources from the Federal Highway Administration to avoid deficiencies in FTA's Formula and Bus Grants account.

FTA monitors the expenditures of flexed funded grants and requests the transfer of liquidating cash from FHWA to ensure sufficient funds are available to meet expenditures. To facilitate tracking of grantees' flex funding expenditures, FTA developed codes to provide distinct identification of “flex funds.”

The process for transferring flexible funds between FTA and FHWA programs is described below. Note that the new transfer process for “flex funds” that began in FY 2007 does not apply to the transfer of funds from FHWA to FTA to be combined with Metropolitan and Statewide Planning and Research resources as Consolidated Planning Grants (CPG). These transfers are based on States requests to transfer funding from the Highway and/or Transit programs to fund States and local project priorities, and joint planning needs. Planning funds transferred will be allowed to be merged in a single grant with FTA planning resources using the same process implemented in FY 2006. For information on the process for the transfer of funds between FTA and FHWA planning programs refer to section III.A and B. Note also that certain prior year appropriations earmarks (Sections 330, 115, 117, and 112) are allotted annually for administration rather than being transferred. For information regarding these procedures, please contact Nancy Grubb, FTA Budget Office, at (202) 366-1635; or FHWA Budget Division, at (202) 366-2845.

i. Transfer From FHWA to FTA

FHWA funds transferred to FTA are used primarily for transit capital projects and eligible operating activities that have been designated as part of the metropolitan and statewide planning and programming process. The project must be included in an approved STIP before the funds can be transferred. By letter, the State DOT requests the FHWA Division Office to transfer highway funds for a transit project. The letter should specify the project, amount to be transferred, apportionment year, State, urbanized area, Federal aid apportionment category (i.e., Surface Transportation Program (STP), Congestion Mitigation and Air Quality (CMAQ) or identification of the earmark and indication of the intended FTA formula program (i.e., Section 5307, 5311 or 5310) and should include a description of the project as contained in the STIP. Note that FTA may also administer certain transfers of statutory earmarks under the Section 5309 bus program, for tracking purposes.

The FHWA Division Office confirms that the apportionment amount is available for transfer and concurs in the transfer, by letter to the State DOT and FTA. The FHWA Office of Budget and Finance then transfers budget authority. All FHWA CMAQ and STP funds transferred to FTA will be transferred to one of the three FTA formula programs (i.e. Urbanized Area Formula (Section 5307), Nonurbanized Area Formula (Section 5311) or Elderly and Persons with Disabilities (Section 5310). High Priority projects in Section 1702 of SAFETEA-LU or Transportation Improvement projects in Section 1934 of SAFETEA-LU and other Congressional earmarks that are transferred to FTA will be aligned with and administered through FTA's discretionary Bus and Bus Related Facilities Program (Section 5309). The most recent guidance on transfers of FHWA funds as allowed under SAFETEA-LU is FHWA Memorandum, dated July 19, 2007, “Information Fund Transfers to Other Agencies and Among Title 23 Programs.”

The FTA grantee's application for the project must specify which program the funds will be used for, and the application must be prepared in accordance with the requirements and procedures governing that program. Upon review and approval of the grantee's application, FTA obligates funds for the project.

Transferred funds are treated as FTA formula or discretionary funds, except for local match purposes as described in c below, but are assigned a distinct identifying code for tracking purposes. The funds may be transferred for any capital purpose eligible under the FTA formula program to which they are transferred and, in the case of CMAQ, for certain operating costs. FHWA issued revised guidance on project eligibility under the CMAQ program in a Notice at 73 FR 62362 et seq. (October 1, 2008) incorporating changes made by SAFETEA-LU. In accordance with 23 U.S.C. 104(k), all FTA requirements except local share, which remains the same as required under the FHWA program, are applicable to transferred funds except in certain cases when CMAQ funds are authorized for operating expenses. Earmarks that are transferred to the Section 5309 Bus Program for administration, however, can be used for the congressionally designated transit purposes, and in some cases where the law provides, are not limited to eligibility under the Bus Program.

In the event that transferred formula funds are not obligated for the intended purpose within the period of availability of the formula program to which they were transferred, they become available to the Governor for any eligible capital transit project. Earmarked funds, however, can only be used for the congressionally designated purposes.

ii. Transfers From FTA to FHWA

The MPO submits a written request to the FTA regional office for a transfer of FTA Section 5307 formula funds (apportioned to a UZA 200,000 and over in population) to FHWA based on approved use of the funds for highway purposes, as determined by the designated recipient under Section 5307 and contained in the Governor's approved State Transportation Improvement Program. The MPO must certify that: (1) Notice and opportunity for comment and appeal has been provided to affected transit providers; (2) the funds are not needed for capital investments required by the Americans with Disabilities Act, and (3) local transit needs are being addressed. The FTA Regional Administrator reviews and, if he or she concurs in the request, then forwards the approval in written format to FTA Headquarters, where a reduction equal to the dollar amount being transferred to FHWA is made to the grantee's Urbanized Area Formula Program apportionment.

Transfers of discretionary earmarks for administration by FHWA are handled on a case by case basis, by the FTA regional office, in consultation with the FTA Office of Program Management, Office of Chief Counsel, and Office of Budget and Policy.

2. Matching Share for FHWA Transfers

Section 104(k) of title 23 U.S.C., regarding the non-Federal share, applies to Title 23 funds used for transit projects. Thus, FHWA funds transferred to FTA retain the same matching share that the funds would have if used for highway purposes and administered by FHWA.

There are four instances in which a Federal share higher than 80 percent would be permitted. First, in States with large areas of Indian and certain public domain lands and national forests, parks and monuments, the local share for highway projects is determined by a sliding scale rate, calculated based on the percentage of public lands within that State. This sliding scale, which permits a greater Federal share, but not to exceed 95 percent, is applicable to transfers used to fund transit projects in these public land States. FHWA develops the sliding scale matching ratios for the increased Federal share.

Second, commuter carpooling and vanpooling projects and transit safety projects using FHWA transfers administered by FTA may retain the same 100 percent Federal share that would be allowed for ride-sharing or safety projects administered by FHWA.

The third instance is the 100 percent federally-funded safety projects; however, these are subject to a nationwide 10 percent program limitation.

The fourth instance occurs with CMAQ funds. Section 1131 of The Energy Independence and Security Act, 2007 (Pub. L. 11-140) amended 23 U.S.C. 120 to increase the Federal share of CMAQ projects to 100% at the State's discretion. FTA will honor this increased match for CMAQ funds transferred to FTA for implementation if the state chooses to fund the project at a higher Federal share than 80 percent. The Federal share for CMAQ projects cannot be lower than 80 percent.

E. Civil Rights Requirements

Recipients of FTA funds are reminded that they must comply with all applicable civil rights requirements. All recipients must submit a Title VI program on a triennial basis, consistent with Title VI of the Civil Rights Act of 1964 and subsequent implementing regulations. Specifically, recipients are encouraged to consult their Regional Civil Rights Officer (RCRO) and FTA Circular 4702.1A, “Title VI and Title VI-Dependent Guidelines for Federal Transit Administration Recipients,” dated May 13, 2007; and Part II, Section 114(c) of the FTA Agreement to develop this program. Recipients receiving $250,000 or more in planning, capital or operating assistance are reminded that under 49 CFR Part 26, they must have a Disadvantaged Business Enterprise (DBE) program and develop a triennial DBE goal. The FTA Reporting Schedule for Recipients' 3 year Goal for Disadvantage Business Enterprise Programs can be found on FTA's DBE Web site under “DBE Guidance” at http://www.fta.dot.gov/civilrights/12326_13310.html. FTA funding recipients that have 50 or more transit-related employees, and that have received capital or operating assistance in excess of $1,000,000 or planning assistance in excess of $250,000 in the previous Federal fiscal year, are required to provide an EEO program submission pursuant to Title VII of the Civil Rights Act of 1964; Title 49, Chapter 53, Section 5332 of the United States Code and FTA Circular 4704.1, “Equal Employment Opportunity Program Guidelines for Grant Recipients,” dated July 26, 1988.

Recent changes to 49 CFR Part 26, the USDOT's DBE regulation, became effective in February 2011. Pursuant to those changes, all recipients who are required to have DBE programs in place must now also have a small business participation element in their DBE program. Recipients must submit to FTA by February 28, 2012, an amendment to the DBE program plan that sets forth in detail the steps to be taken to facilitate competition by small business concerns. Specifically, fostering small business participation includes taking all reasonable steps to eliminate obstacles to their participation, including unnecessary and unjustified bundling of contract requirements that may preclude small business participation in procurements as prime contractors or subcontractors. Tools that recipients may choose to utilize in their small business program could include establishing a race-neutral small business set-aside goal in contracts, requiring prime contractors to provide subcontracting opportunities of the type size that small businesses, including DBEs, can reasonably perform, identifying alternative acquisition strategies and structuring procurements to facilitate the ability of consortia or joint ventures consisting of small businesses, including DBEs to compete for an perform prime contacts. The small business program amendment may be submitted as a standalone document, but it should also be incorporated into the recipient's existing DBE program. Please be advised that if you have not updated your DBE program in the last two years, you are encouraged to consult with your Regional Civil Rights Officer as there may be other updates necessary for you to bring your DBE program into full compliance with 49 CFR Part 26. Please visit FTA's Web site at http://www.fta.dot.gov/civilrights/12326.html for guidance on the small business requirements. In addition, once you have developed your small business program, you must attach the full version of your DBE Program containing the new section into FTA's Transportation Electronic Award Management (TEAM) system. Again, you must submit your small business program within your DBE Program to FTA by February 28, 2012, and that program must be loaded into TEAM. Paper submissions to FTA will not be accepted.

Please also be advised that recipients in an urbanized area of 200,000 or more must analyze the impact of any proposed changes to transit service and fares. It is important that you conduct this analysis now under the existing requirements. This is true even as we consider changes to FTA's Title VI Circular 4702.1A itself, via the proposal that was published in the Federal Register on September 29, 2011.

Specifically, Chapter V of FTA's Title VI Circular, “Program-Specific Requirements and Guidelines for Recipients Serving Large Urbanized Areas” sets out directives that include, most notably, the requirement to properly assess the impacts of service and fare changes. In other words, public transportation agencies serving large urbanized areas must conduct a service and fare equity analysis at the planning and programming stages to determine whether service and/or fare changes have a discriminatory impact. Service change analysis is required both for service reductions and service improvements. FTA has developed a service and fare analysis questionnaire that can also assist you by following this link: http://www.fta.dot.gov/civilrights/12881.html. In addition, although our proposed changes to the Title VI Circular are not final, you may find the examples included in the appendices of the proposed circular helpful as you develop your service and fare analysis. You can review the proposed Circular at the following link: http://www.fta.dot.gov/12349_13816.html. Please submit this analysis to FTA in advance of implementing the changes by attaching the full version to FTA's TEAM system.

As always, FTA staff stands ready to assist you with civil rights compliance. Please check the FTA civil rights web page for training opportunities. You can also contact your regional civil rights officer for assistance.

F. Deferred Local Share

A recipient may request on a case by case basis that the local share for a project funded with FTA formula funds be deferred until 100 percent of the Federal funds have been drawn down. A request for the deferral must accompany the grant application. FTA must approve the deferral of local share prior to obligating the grant for which the local share is deferred. Approval is contingent upon the deferral's resulting in benefits to transit and upon the recipient's demonstrating that the recipient has the financial capacity to complete the project. In order to complete the project, the local funds must be available to match all the Federal funds that were previously drawn down.

Deferred local share does not apply to FTA discretionary programs. Generally, FTA will not approve retroactive deferral of local share. In exceptional circumstances, FTA may approve retroactive deferral of local share, for example in response to a catastrophic event such as a hurricane or flood where sources of local funds are temporarily disrupted.

G. Technical Assistance

FTA headquarters and regional staff will be pleased to answer your questions and provide any technical assistance you may need to apply for FTA program funds and manage the grants you receive. This notice and the program guidance circulars previously identified in this document may be accessed via the FTA Web site at www.fta.dot.gov.

In addition, copies of the following circulars and other useful information are available on the FTA Web site and may be obtained from FTA regional offices; Circular 4220.1F, “Third Party Contracting Guidance,” and Circular 5010.1D, “Grant Management Guidelines.” Both circulars were recently revised and can be found at http://www.fta.dot.gov/laws/leg_reg_circulars_guidance.html. The FY 2012 Annual List of Certifications and Assurances and Master Agreement are also posted on the FTA Web site.

The DOT final rule on “Participation by Disadvantaged Business Enterprises in Department of Transportation Financial Assistance Programs,” which was effective July 16, 2003, can be found at http://www.access.gpo.gov/nara/cfr/waisidx_04/49cfr26_04.html/.

Issued in Washington, DC, this 5th day of January, 2012.
Peter Rogoff,
Administrator.

Appendix A—FTA Regional Offices
Mary Beth Mello, Regional Administrator, Region 1—Boston, Kendall Square, 55 Broadway, Suite 920, Cambridge, MA 02142-1093, Tel. 617-494-2055 | Robert C. Patrick, Regional Administrator, Region 6—Ft. Worth, 819 Taylor Street, Room 8A36, Ft. Worth, TX 76102, Tel. 817-978-0550.
States served: Connecticut, Maine, Massachusetts, New Hampshire, Rhode Island, and Vermont | States served: Arkansas, Louisiana, Oklahoma, New Mexico and Texas.
Anthony Carr, Acting Regional Administrator, Region 2—New York, One Bowling Green, Room 429, New York, NY 10004-1415, Tel. 212-668-2170 | Mokhtee Ahmad, Regional Administrator, Region 7—Kansas City, MO, 901 Locust Street, Room 404, Kansas City, MO 64106, Tel. 816-329-3920.
States served: New Jersey, New York | States served: Iowa, Kansas, Missouri, and Nebraska.
New York Metropolitan Office, Region 2—New York, One Bowling Green, Room 428, New York, NY 10004-1415, Tel. 212-668-2202.
Brigid Cherin-Hynes, Regional Administrator, Region 3—Philadelphia, 1760 Market Street, Suite 500, Philadelphia, PA 19103-4124, Tel. 215-656-7100 | Terry Rosapep, Regional Administrator, Region 8—Denver, 12300 West Dakota Ave., Suite 310, Lakewood, CO 80228-2583, Tel. 720-963-3300.
States served: Delaware, Maryland, Pennsylvania, Virginia, West Virginia, and District of Columbia | States served: Colorado, Montana, North Dakota, South Dakota, Utah, and Wyoming.
Philadelphia Metropolitan Office, Region 3—Philadelphia, 1760 Market Street, Suite 500, Philadelphia, PA 19103-4124, Tel. 215-656-7070.
Washington, D.C. Metropolitan Office, 1990 K Street NW., Room 510, Washington, DC 20006, Tel. 202-219-3562.
Yvette Taylor, Regional Administrator, Region 4—Atlanta, 230 Peachtree Street NW., Suite 800, Atlanta, GA 30303, Tel. 404-865-5600 | Leslie T. Rogers, Regional Administrator, Region 9—San Francisco, 201 Mission Street, Room 1650, San Francisco, CA 94105-1926, Tel. 415-744-3133.
States served: Alabama, Florida, Georgia, Kentucky, Mississippi, North Carolina, Puerto Rico, South Carolina, Tennessee, and Virgin Islands | States served: American Samoa, Arizona, California, Guam, Hawaii, Nevada, and the Northern Mariana Islands. Los Angeles Metropolitan Office, Region 9—Los Angeles, 888 S. Figueroa Street, Suite 1850, Los Angeles, CA 90017-1850, Tel. 213-202-3952.
Marisol Simon, Regional Administrator, Region 5—Chicago, 200 West Adams Street, Suite 320, Chicago, IL 60606, Tel. 312-353-2789 | Rick Krochalis, Regional Administrator, Region 10—Seattle, Jackson Federal Building, 915 Second Avenue, Suite 3142, Seattle, WA 98174-1002, Tel. 206-220-7954.
States served: Illinois, Indiana, Michigan, Minnesota, Ohio, and Wisconsin | States served: Alaska, Idaho, Oregon, and Washington.
Chicago Metropolitan Office, Region 5—Chicago, 200 West Adams Street, Suite 320, Chicago, IL 60606, Tel. 312-353-2789.

BILLING CODE P

[FR Doc. 2012-249 Filed 1-10-12; 8:45 am]

BILLING CODE C